DEPARTMENT OF HOUSING AND URBAN DEVELOPMENT

[Docket No. FR-4980-N-38]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Kathy Ezzell, room 7266, Department of Housing and Urban Development, 451 Seventh Street SW., Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to John Hicks, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: ARMY: Ms. Audrey C. Ormerod, Department of the Army, Office of the Assistant Chief of Staff for Installation Management, Attn: DAIM-MD, Room 1E677, 600 Army Pentagon, Washington, DC 20310; (703) 601-2520; ENERGY: Mr. Andy Duran, Department of Energy, Office of Engineering & Construction Management, ME-90, 1000 Independence Ave, SW., Washington, DC 20585: (202) 586-4548; INTERIOR: Ms. Linda Tribby, Acquisition & Property Management, Department of the Interior, 1849 C Street, NW., MS5512, Washington, DC 20240; (202) 219-0728; NAVY: Mr. Warren Meekins, Department of the Navy, Real Estate Services, Naval Facilities Engineering Command, Washington Navy Yard, 1322 Patterson Ave., SE., Suite 1000, Washington, DC 20374-5065; (202) 685-9305; (These are not toll-free numbers).

Dated: September 15, 2005.
Mark R. Johnston,
Director, Office of Special Needs Assistance Programs.

Title V, Federal Surplus Property Program Federal Register Report 9/23/05

Suitable/Available Properties

Buildings (by State)

California

Trailer 51243

Joshua Tree Natl Park

74485 Natl Park Drive

San Bernardino Co: CA

92277-Landholding Agency: Interior

Property Number: 61200520004

Status: Unutilized

Comment: 600 sq. ft., needs repair, off-site use only

Trailer 510184

Joshua Tree Natl Park

74485 Natl Park Drive

San Bernardino Co: CA 92277-

Landholding Agency: Interior

Property Number: 61200520005

Status: Unutilized

Comment: 576 sq. ft., needs repair, off-site use only

Georgia

Bldg. 01199

Hunter Army Airfield

Savannah Co: Chatham GA 31409-

Landholding Agency: Army

Property Number: 21200530072

Status: Excess

Comment: 224 sq. ft., most recent use—storage, off-site use only

Bldg. 01202

Hunter Army Airfield

Savannah Co: Chatham GA 31409-

Landholding Agency: Army

Property Number: 21200530073

Status: Excess

Comment: 1014 sq. ft., most recent use—storage, off-site use only

Bldg. 01203

Hunter Army Airfield

Savannah Co: Chatham GA 31409-

Landholding Agency: Army

Property Number: 21200530074

Status: Excess

Comment: 18,822 sq. ft., most recent use—vehicle maintenance, off-site use only

Bldg. 01226

Hunter Army Airfield

Savannah Co: Chatham GA 31409-

Landholding Agency: Army

Property Number: 21200530075

Status: Excess

Comment: 1092 sq. ft., most recent use—plant, off-site use only

Bldg. 01296

Hunter Army Airfield

Savannah Co: Chatham GA 31409-

Landholding Agency: Army

Property Number: 21200530076

Status: Excess

Comment: 269 sq. ft., most recent use—storage, off-site use only

Bldg. 01283

Hunter Army Airfield

Savannah Co: Chatham GA 31409-

Landholding Agency: Army

Property Number: 21200530077

Status: Excess

Comment: 1350 sq. ft., most recent use—storage, off-site use only

Bldg. 08585

Hunter Army Airfield

Savannah Co: Chatham GA 31409-

Landholding Agency: Army

Property Number: 21200530078

Status: Excess

Comment: 165 sq. ft., most recent use—plant, off-site use only

Hawaii

Bldg. S180

Naval Station, Ford Island

Pearl Harbor Co: Honolulu HI 96860-

Landholding Agency: Navy

Property Number: 77199640039

Status: Unutilized

Comment: 3412 sq. ft., 2-story, most recent use—bomb shelter, off-site use only, relocation may not be feasible

Bldg. S181

Naval Station, Ford Island

Pearl Harbor Co: Honolulu HI 96860-

Landholding Agency: Navy

Property Number: 77199640040

Status: Unutilized

Comment: 4258 sq. ft., 1-story, most recent use—bomb shelter, off-site use only, relocation may not be feasible

Bldg. 219

Naval Station, Ford Island

Pearl Harbor Co: Honolulu HI 96860-

Landholding Agency: Navy

Property Number: 77199640041

Status: Unutilized

Comment: 620 sq. ft., most recent use—damage control, off-site use only, relocation may not be feasible

Bldg. 220

Naval Station, Ford Island

Pearl Harbor Co: Honolulu HI 96860-

Landholding Agency: Navy

Property Number: 77199640042

Status: Unutilized

Comment: 620 sq. ft., most recent use—damage control, off-site use only, relocation may not be feasible

Idaho

Bldg. CF603

Idaho Natl Eng & Env Lab

Scoville Co: Butte ID 83415-

Landholding Agency: Energy

Property Number: 41200020004

Status: Excess

Comment: 15,005 sq. ft. cinder block, presence of asbestos/lead paint, major rehab, off-site use only

Bldg. 79

Section 9

Portion of Tract C

Paul Co: Jeromo ID 83347-

Landholding Agency: Interior

Property Number: 61200520012

Status: Unutilized

Comment: 832 sq. ft., presence of asbestos/lead paint, most recent use—residence, off-site use only

Maryland

Bldg. 00673

Aberdeen Proving Ground

Aberdeen Co: Harford MD 21005-

Landholding Agency: Army

Property Number: 21200530079

Status: Unutilized

Comment: 3600 sq. ft., most recent use—ordance, off-site use only

Bldg. 00688

Aberdeen Proving Ground

Aberdeen Co: Harford MD 21005-

Landholding Agency: Army

Property Number: 21200530080

Status: Unutilized

Comment: 24,192 sq. ft., most recent use—ammo, off-site use only

Bldg. 0739A

Aberdeen Proving Ground

Aberdeen Co: Harford MD 21005-

Landholding Agency: Army

Property Number: 21200530081

Status: Unutilized

Comment: 1474 sq. ft., most recent use—ordance, off-site use only

Bldg. E1511

Aberdeen Proving Ground

Aberdeen Co: Harford MD 21005-

Landholding Agency: Army

Property Number: 21200530082

Status: Unutilized

Comment: 201 sq. ft., most recent use—access control, off-site use only

Bldg. 02832

Aberdeen Proving Ground

Aberdeen Co: Harford MD 21005-

Landholding Agency: Army

Property Number: 21200530083

Status: Unutilized

Comment: 36 sq. ft., most recent use—access control, off-site use only

Bldg. 05655

Aberdeen Proving Ground

Aberdeen Co: Harford MD 21005-

Landholding Agency: Army

Property Number: 21200530084

Status: Unutilized

Comment: 1610 sq. ft., most recent use—access control, off-site use only

Massachusetts

Bldgs. 3263-3266

Westover RAFB

Outer Road

Chicopee Co: MA 01022-

Landholding Agency: Navy

Property Number: 77200520002

Status: Excess

Comment: 3952 sq. ft., military family housing, needs rehab, off-site use only

Bldgs. 3200 thru 3214

Westover RAFB

Cowan Ave/Goodwin St

Chicopee Co: MA

Landholding Agency: Navy

Property Number: 77200520003

Status: Excess

Comment: various sq. ft., needs rehab, most recent use—admin., off-site use only

New Hampshire

Bldg. 288

Naval Shipyard

Portsmouth Co: NH 03804-5000

Landholding Agency: Navy

Property Number: 77200510018

Status: Excess

Comment: 3600 sq. ft., presence of asbestos/lead paint, most recent use—ship filters shop, off-site use only

Bldg. 344

Naval Shipyard

Portsmouth Co: NH 03804-5000

Landholding Agency: Navy

Property Number: 77200510019

Status: Excess

Comment: 1406 sq. ft., presence of asbestos/lead paint, most recent use—riggers shop, off-site use only

Bldg. 346

Naval Shipyard

Portsmouth Co: NH 03804-5000

Landholding Agency: Navy

Property Number: 77200510020

Status: Excess

Comment: 545 sq. ft., presence of asbestos/lead paint, most recent use—locker bldg., off-site use only

Bldg. M-17

Naval Shipyard

Portsmouth Co: NH 03804-5000

Landholding Agency: Navy

Property Number: 77200510021

Status: Excess

Comment: 760 sq. ft., presence of asbestos/lead paint, most recent use—garage, off-site use only

New York

Building 1

Scotia Navy Depot

Scotia Co: Schenectady NY 12302-9460

Landholding Agency: Navy

Property Number: 77200440021

Status: Excess

Comment: 39,554 sq. ft., needs extensive repairs, presence of asbestos/lead paint, most recent use—office

Tennessee

Tract 01-171

National Military Park

Shiloh Co: Hardin TN 38376-

Landholding Agency: Interior

Property Number: 61200520010

Status: Excess

Comment: 1344 sq. ft. mobile home, off-site use only

Tract 01-174

National Military Park

Shiloh Co: Hardin TN 38376-

Landholding Agency: Interior

Property Number: 61200520011

Status: Excess

Comment: 1179 sq. ft., presence of lead paint most recent use—residential, off-site use only

Texas

Water Tower

Lake Meredith Natl Rec Area

Fritch Co: Hutchinson TX 79036-

Landholding Agency: Interior

Property Number: 61200510002

Status: Unutilized

Comment: off-site use only

Washington

Bldg. 88

1917 Marsh Road

Yakima WA 98901-

Landholding Agency: Interior

Property Number: 61200340007

Status: Unutilized

Comment: 1032 sq. ft., presence of asbestos/lead paint, most recent use—office, off-site use only

West Virginia

Cyrus House/Garage

New River Gorge

Tract 102-33

Hinton Co: Raleigh WV 25951-

Landholding Agency: Interior

Property Number: 61200520014

Status: Excess

Comment: 2964 sq. ft. & 280 sq. ft., most recent use—residential, off-site use only

Cochran Cabin #1

New River Gorge

Tract 104-04

Hinton Co: Raleigh WV 25951-

Landholding Agency: Interior

Property Number: 61200520015

Status: Excess

Comment: 624 sq. ft., off-site use only

Cochran Cabin #2

New River Gorge

Tract 104-04

Hinton Co: Raleigh WV 25951-

Landholding Agency: Interior

Property Number: 61200520016

Status: Excess

Comment: 624 sq. ft., off-site use only

Rhodes Well House

New River Gorge

Tract 169-21

Hinton Co: Raleigh WV 25951-

Landholding Agency: Interior

Property Number: 61200520017

Status: Excess

Comment: 80 sq. ft., off-site use only

Rhodes Barn/Storage

New River Gorge

Tract 169-21

Hinton Co: Raleigh WV 25951-

Landholding Agency: Interior

Property Number: 61200520018

Status: Excess

Comment: 70 sq. ft., off-site use only

Rhodes House

New River Gorge

Tract 169-21

Hinton Co: Raleigh WV 25951-

Landholding Agency: Interior

Property Number: 61200520019

Status: Excess

Comment: 900 sq. ft., most recent use—residential, off-site use only

Land (by State)

Idaho

19.5 acres

Teton Dam Site

Newdale Co: Madison ID 83436-

Landholding Agency: Interior

Property Number: 61200430047

Status: Excess

Comment: narrow strip of land, center of irrigated agriculture fields

19.47 acres

Tract C/Section 11

Paul Co: Minidoka ID 83347-

Landholding Agency: Interior

Property Number: 61200430048

Status: Excess

Comment: agriculture/sagebrush

20.07 acres

Section 15; Lots 9-10

Paul Co: Minidoka ID 83347-

Landholding Agency: Interior

Property Number: 61200430049

Status: Excess

Comment: agriculture production/irrigation sprinkler system

Suitable/Unavailable Properties

Buildings (by State)

Hawaii

Bldg. 1145

Naval Air Station

Barbers Point Co: Honolulu HI 96707-

Landholding Agency: Navy

Property Number: 77200510026

Status: Unutilized

Comment: 11,440 sq. ft., presence of asbestos/lead paint, poor condition, most recent use—youth center

Idaho

Bldg. CFA-613

Central Facilities Area

Idaho National Engineering Lab

Scoville Co: Butte ID 83415-

Landholding Agency: Energy

Property Number: 41199630001

Status: Unutilized

Comment: 1219 sq. ft., most recent use—sleeping quarters, presence of asbestos, off-site use only

Missouri

Bldg. 00467

Fort Leonard Wood

Ft. Leonard Wood Co: Pulaski MO 65743-

Landholding Agency: Army

Property Number: 21200530085

Status: Unutilized

Comment: 2790 sq. ft., most recent use—fast food facility, off-site use only

Oklahoma

282 Bldgs.

Fort Sill

Lawton Co: Comanche OK 73503-

Landholding Agency: Army

Property Number: 21200530086

Status: Unutilized

Comment: 1127 sq. ft. to 2629 sq. ft., possible asbestos/lead paint, most recent use—housing, off-site use only

43 Garages

Fort Sill

Lawton Co: Comanche OK 73503-

Landholding Agency: Army

Property Number: 21200530087

Status: Unutilized

Comment: 703 sq. ft. to 2053 sq. ft., off-site use only

Wisconsin

Bldg. 01352

Fort McCoy

Monroe Co: WI 54656-

Landholding Agency: Army

Property Number: 21200530088

Status: Excess

Comment: 6362 sq. ft., most recent use—vehicle maintenance, off-site use only

Bldg. 01355

Fort McCoy

Monroe Co: WI 54656-

Landholding Agency: Army

Property Number: 21200530089

Status: Excess

Comment: 5282 sq. ft., most recent use—vehicle maintenance, off-site use only

Bldg. 01363

Fort McCoy

Monroe Co: WI 54656-

Landholding Agency: Army

Property Number: 21200530090

Status: Excess

Comment: 3200 sq. ft., most recent use—storage, off-site use only

Bldgs. 01459-01462

Fort McCoy

Monroe Co: WI 54656-

Landholding Agency: Army

Property Number: 21200530091

Status: Excess

Comment: 3108 sq. ft., most recent use—vehicle maintenance, off-site use only

Bldgs. 01464-01466

Fort McCoy

Monroe Co: WI 54656-

Landholding Agency: Army

Property Number: 21200530092

Status: Excess

Comment: 1350 sq. ft., most recent use—storage, off-site use only

Unsuitable Properties

Buildings (by State)

California

Bldgs. M03, MO14, MO17

Sandia National Lab

Livermore Co: Alameda CA 94550-

Landholding Agency: Energy

Property Number: 41200220001

Status: Excess

Reason: Extensive deterioration

Bldgs. 9163, 962, 9621

Sandia National Lab

Livermore Co: Alameda CA 94551-

Landholding Agency: Energy

Property Number: 41200420001

Status: Unutilized

Reason: Secured Area

Bldg. 29D

Berkeley National Lab

Berkeley Co: Alameda CA 94720-

Landholding Agency: Energy

Property Number: 41200430070

Status: Excess

Reason: Extensive deterioration

Mobile Home/T00706

Yosemite Natl Park 5001 Trailer Court

El Portal Co: Mariposa CA 95318-

Landholding Agency: Interior

Property Number: 61200340009

Status: Unutilized

Reason: Extensive deterioration

133/215 Conlon

Golden Gate Natl Rec Area

Mill Valley Co: Marin CA 94941-

Landholding Agency: Interior

Property Number: 61200340011

Status: Unutilized

Reason: Extensive deterioration

Bldg. 3410

Yosemite National Park

Vogelsang

Yosemite Co: Mariposa CA 95389-

Landholding Agency: Interior

Property Number: 61200420008

Status: Unutilized

Reason: Extensive deterioration

Bldgs. 06240 thru 06245

Yosemite National Park

Tamarack Flat

Yosemite Co: Mariposa CA 95389-

Landholding Agency: Interior

Property Number: 61200420009

Status: Unutilized

Reason: Extensive deterioration

Bldg./Lodge

Yosemite National Park

Yosemite Co: Mariposa CA 95389-

Landholding Agency: Interior

Property Number: 61200420011

Status: Unutilized

Reason: Extensive deterioration

Bldgs. 412-414

Yosemite National Park

Lower Pines

Yosemite Co: Mariposa CA 95389-

Landholding Agency: Interior

Property Number: 61200430001

Status: Unutilized

Reason: Extensive deterioration

Bldg. 416

Yosemite National Park

Lower Pines

Yosemite Co: Mariposa CA 95389-

Landholding Agency: Interior

Property Number: 61200430002

Status: Unutilized

Reason: Extensive deterioration

Bldgs. 421-424

Yosemite National Park

Upper River

Yosemite Co: Mariposa CA 95389-

Landholding Agency: Interior

Property Number: 61200430003

Status: Unutilized

Reason: Extensive deterioration

Bldgs. 428-432

Yosemite National Park

Lower River

Yosemite Co: Mariposa CA 95389-

Landholding Agency: Interior

Property Number: 61200430004

Status: Unutilized

Reason: Extensive deterioration

Bldgs. 451, 452

Yosemite National Park

Group Campgrounds

Yosemite Co: Mariposa CA 95389-

Landholding Agency: Interior

Property Number: 61200430005

Status: Unutilized

Reason: Extensive deterioration

Bldg. 438

Golden Gate Natl Rec

Camino Del Canyon

Mill Valley Co: Marin CA 94941-

Landholding Agency: Interior

Property Number: 61200430012

Status: Unutilized

Reason: Extensive deterioration

Bldg. 490

Golden Gate Natl Rec

Camino Del Canyon

Mill Valley Co: Marin CA 94941-

Landholding Agency: Interior

Property Number: 61200430013

Status: Unutilized

Reason: Extensive deterioration

Bldgs. 666A, 666B

Golden Gate Natl Rec

Camino Del Canyon

Mill Valley Co: Marin CA 94941-

Landholding Agency: Interior

Property Number: 61200430014

Status: Unutilized

Reason: Extensive deterioration

Bldg. 690

Golden Gate Natl Rec

Camino Del Canyon

Mill Valley Co: Marin CA 94941-

Landholding Agency: Interior

Property Number: 61200430015

Status: Unutilized

Reason: Extensive deterioration

Tract 113-65

Santa Monica Mountains

National Recreation

Malibu Co: Los Angeles CA 90265-

Landholding Agency: Interior

Property Number: 61200430018

Status: Unutilized

Reason: Extensive deterioration

Bldg. YLS-001

Yosemite National Park

Yosemite Lodge

Mariposa Co: CA 95389-

Landholding Agency: Interior

Property Number: 61200430026

Status: Unutilized

Reason: Extensive deterioration

Bldg. YLS-004

Yosemite National Park

Yosemite Lodge

Mariposa Co: CA 95389-

Landholding Agency: Interior

Property Number: 61200430027

Status: Unutilized

Reason: Extensive deterioration

Bldg. YLE069

Yosemite National Park

Yosemite Lodge

Mariposa Co: CA 95389-

Landholding Agency: Interior

Property Number: 61200430028

Status: Unutilized

Reason: Extensive deterioration

Bldg. 1000 A & B

Yosemite National Park

Yosemite Lodge

Mariposa Co: CA 95389-

Landholding Agency: Interior

Property Number: 61200430029

Status: Unutilized

Reason: Extensive deterioration

Bldgs. 1000C, 1000D

Yosemite National Park

Yosemite Lodge

Mariposa Co: CA 95389-

Landholding Agency: Interior

Property Number: 61200430030

Status: Unutilized

Reason: Extensive deterioration

Post Office

Yosemite National Park

Yosemite Lodge

Mariposa Co: CA 95389-

Landholding Agency: Interior

Property Number: 61200430031

Status: Unutilized

Reason: Extensive deterioration

Boiler Room

Yosemite National Park

Yosemite Lodge

Mariposa Co: CA 95389-

Landholding Agency: Interior

Property Number: 61200430032

Status: Unutilized

Reason: Extensive deterioration

Bldg. 4177

Yosemite National Park

Mariposa Co: CA 95389-

Landholding Agency: Interior

Property Number: 61200430036

Status: Unutilized

Reason: Extensive deterioration

Bldg. 4153

Yosemite National Park

Mariposa Co: CA 95389-

Landholding Agency: Interior

Property Number: 61200430037

Status: Unutilized

Reason: Extensive deterioration

Bldg. 4205

Yosemite National Park

Mariposa Co: CA 95389-

Landholding Agency: Interior

Property Number: 61200430038

Status: Unutilized

Reason: Extensive deterioration

Bldg. 4730

Yosemite National Park

Mariposa Co: CA 95389-

Landholding Agency: Interior

Property Number: 61200430039

Status: Unutilized

Reason: Extensive deterioration

Bldgs. 4176, 4183

Yosemite National Park

Wawona Co: Mariposa CA 95389-

Landholding Agency: Interior

Property Number: 61200430040

Status: Unutilized

Reason: Extensive deterioration

Randa House

National Recreation Area

Agoura Hills Co: Los Angeles CA 91301-

Landholding Agency: Interior

Property Number: 61200510003

Status: Unutilized

Reason: Extensive deterioration

Quarter #90

Sequoia National Park

Three Rivers Co: Tulare CA 93271-

Landholding Agency: Interior

Property Number: 61200510004

Status: Unutilized

Reason: Extensive deterioration

Bldg. 756

Wastewater Treatment Plant

El Portal Co: Mariposa CA 95318-

Landholding Agency: Interior

Property Number: 61200520001

Status: Unutilized

Reason: Extensive deterioration

FMSS Asset 6727

Sunrise Backpackers Campground

Mariposa Co: CA 95389-

Landholding Agency: Interior

Property Number: 61200520002

Status: Unutilized

Reason: not accessible by road

FMSS Asset 6728

Glen Aulin Backpackers Campground

Tuolumne Co: CA 95389-

Landholding Agency: Interior

Property Number: 61200520003

Status: Unutilized

Reason: not accessible by road

Bldg. 652

Naval Air Station

North Island Co: CA

Landholding Agency: Navy

Property Number: 77200430001

Status: Excess

Reason: Extensive deterioration

Bldg. 2486

Marine Corps Base

Camp Pendleton Co: CA 92055-

Landholding Agency: Navy

Property Number: 77200430002

Status: Excess

Reason: Extensive deterioration

Bldg. 13140

Marine Corps Base

Camp Pendleton Co: CA 92055-

Landholding Agency: Navy

Property Number: 77200430003

Status: Excess

Reason: Extensive deterioration

Bldgs. 22141, 22142

Marine Corps Base

Camp Pendleton Co: CA 92055-

Landholding Agency: Navy

Property Number: 77200430004

Status: Excess

Reason: Extensive deterioration

Bldg. 25170

Marine Corps Base

Camp Pendleton Co: CA 92055-

Landholding Agency: Navy

Property Number: 77200430005

Status: Excess

Reason: Extensive deterioration

Bldgs. 31340, 31341

Marine Corps Base

Camp Pendleton Co: CA 92055-

Landholding Agency: Navy

Property Number: 77200430006

Status: Excess

Reason: Extensive deterioration

Bldg. 52652

Marine Corps Base

Camp Pendleton Co: CA 92055-

Landholding Agency: Navy

Property Number: 77200430007

Status: Excess

Reason: Extensive deterioration

Bldg. 2

Naval Base

Point Loma Co: CA

Landholding Agency: Navy

Property Number: 77200430054

Status: Excess

Reasons: Within 2000 ft. of flammable or explosive material; Secured Area; Extensive deterioration

4 Bldgs.

Naval Base

Port Hueneme Co: Ventura CA 93043-

Location: PH-1413, PH-1254, PH-1323, PH-1162

Landholding Agency: Navy

Property Number: 77200430055

Status: Unutilized

Reason: Secured Area

Bldg. 03890

Naval Air Weapons Station

China Lake Co: CA 93555-

Landholding Agency: Navy

Property Number: 77200430056

Status: Excess

Reason: Extensive deterioration

Bldg. 440

Naval Base Point Loma

Fleet Warfare Center

San Diego Co: CA

Landholding Agency: Navy

Property Number: 77200440002

Status: Excess

Reason: Extensive deterioration

Bldgs. 20, 25

Naval Base Point Loma

San Diego Co: CA

Landholding Agency: Navy

Property Number: 77200440016

Status: Unutilized

Reason: Extensive deterioration

Bldg. 2533

Marine Corps Base

Camp Pendleton Co: CA 92055-

Landholding Agency: Navy

Property Number: 77200520005

Status: Excess

Reasons: Secured Area; Extensive deterioration

Bldg. 13111

Marine Corps Base

Camp Pendleton Co: CA 92055-

Landholding Agency: Navy

Property Number: 77200520006

Status: Excess

Reasons: Secured Area; Extensive deterioration

Bldgs. 53325, 53326

Marine Corps Base

Camp Pendleton Co: CA 92055-

Landholding Agency: Navy

Property Number: 77200520007

Status: Excess

Reasons: Secured Area; Extensive deterioration

5 Bldgs.

Marine Corps Base

53421, 53424 thru 53427

Camp Pendleton Co: CA 92055-

Landholding Agency: Navy

Property Number: 77200520008

Status: Excess

Reasons: Secured Area; Extensive deterioration

Bldgs. 61311, 61313, 61314

Marine Corps Base

Camp Pendleton Co: CA 92055-

Landholding Agency: Navy

Property Number: 77200520009

Status: Excess

Reasons: Secured Area; Extensive deterioration

Bldgs. 61320-61324, 61326

Marine Corps Base

Camp Pendleton Co: CA 92055-

Landholding Agency: Navy

Property Number: 77200520010

Status: Excess

Reasons: Secured Area; Extensive deterioration

Bldgs. 62711 thru 62717

Marine Corps Base

Camp Pendleton Co: CA 92055-

Landholding Agency: Navy

Property Number: 77200520011

Status: Excess

Reasons: Secured Area; Extensive deterioration

Bldgs. 4 and 15

Naval Submarine Base

Point Loma Co: CA

Landholding Agency: Navy

Property Number: 77200520014

Status: Unutilized

Reason: Extensive deterioration

Bldg. PM4-3

Naval Base

Oxnard Co: Ventura CA 93042-

Landholding Agency: Navy

Property Number: 77200530033

Status: Unutilized

Reason: Extensive deterioration

Colorado

Bldg. 34

Grand Junction Projects Office

Grand Junction Co: Mesa CO 81503-

Landholding Agency: Energy

Property Number: 41199540001

Status: Underutilized

Reasons: Contamination; Secured Area

Bldg. 35

Grand Junction Projects Office

Grand Junction Co: Mesa CO 81503-

Landholding Agency: Energy

Property Number: 41199540002

Status: Underutilized

Reasons: Contamination; Secured Area

Bldg. 36

Grand Junction Projects Office

Grand Junction Co: Mesa CO 81503-

Landholding Agency: Energy

Property Number: 41199540003

Status: Underutilized

Reasons: Contamination; Secured Area

Bldg. 727

Rocky Flats Environmental Tech Site

Golden Co: Jefferson CO 80020-

Landholding Agency: Energy

Property Number: 41199910001

Status: Unutilized

Reasons: Within 2000 ft. of flammable or explosive material; Secured Area

Bldg. 717

Rocky Flats Env. Tech Site

Golden Co: Jefferson CO 80020-

Landholding Agency: Energy

Property Number: 41199930022

Status: Underutilized

Reasons: Within 2000 ft. of flammable or explosive material; Secured Area

Bldg. 770

Rocky Flats Env. Tech Site

Golden Co: Jefferson CO 80020-

Landholding Agency: Energy

Property Number: 41199930023

Status: Underutilized

Reasons: Within 2000 ft. of flammable or explosive material; Secured Area

Bldg. 771

Rocky Flats Env. Tech Site

Golden Co: Jefferson CO 80020-

Landholding Agency: Energy

Property Number: 41199930024

Status: Underutilized

Reasons: Within 2000 ft. of flammable or explosive material; Secured Area

Bldg. 771B

Rocky Flats Env. Tech Site

Golden Co: Jefferson CO 80020-

Landholding Agency: Energy

Property Number: 41199930025

Status: Underutilized

Reasons: Within 2000 ft. of flammable or explosive material; Secured Area

Bldg. 771C

Rocky Flats Env. Tech Site

Golden Co: Jefferson CO 80020-

Landholding Agency: Energy

Property Number: 41199930026

Status: Underutilized

Reasons: Within 2000 ft. of flammable or explosive material; Secured Area

Bldg. 774

Rocky Flats Env. Tech Site

Golden Co: Jefferson CO 80020-

Landholding Agency: Energy

Property Number: 41199930029

Status: Underutilized

Reasons: Within 2000 ft. of flammable or explosive material; Secured Area

Bldg. 776

Rocky Flats Environmental Tech Site

Golden Co: Jefferson CO 80020-

Landholding Agency: Energy

Property Number: 41200010001

Status: Excess

Reasons: Within 2000 ft. of flammable or explosive material; Secured Area

Bldg. 777

Rocky Flats Environmental Tech Site

Golden Co: Jefferson CO 80020-

Landholding Agency: Energy

Property Number: 41200010002

Status: Excess

Reasons: Within 2000 ft. of flammable or explosive material; Secured Area

Bldg. 778

Rocky Flats Environmental Tech Site

Golden Co: Jefferson CO 80020-

Landholding Agency: Energy

Property Number: 41200010003

Status: Excess

Reasons: Within 2000 ft. of flammable or explosive material; Secured Area

Structure 771 TUN

Rocky Flats Environmental Tech Site

Golden Co: Jefferson CO 80020-

Landholding Agency: Energy

Property Number: 41200010006

Status: Excess

Reasons: Within 2000 ft. of flammable or explosive material; Secured Area

Bldgs. 124, 129

Rocky Flats Env. Tech. Site

Golden Co: Jefferson CO 80020-

Landholding Agency: Energy

Property Number: 41200220002

Status: Excess

Reasons: Within 2000 ft. of flammable or explosive material; Secured Area

Bldgs. 371, 374, 374A

Rocky Flats Env. Tech. Site

Golden Co: Jefferson CO 80020-

Landholding Agency: Energy

Property Number: 41200220003

Status: Excess

Reasons: Within 2000 ft. of flammable or explosive material; Secured Area

Bldgs. 561, 562

Rocky Flats Env. Tech. Site

Golden Co: Jefferson CO 80020-

Landholding Agency: Energy

Property Number: 41200220007

Status: Excess

Reasons: Within 2000 ft. of flammable or explosive material; Secured Area

Bldgs. 701, 705-708

Rocky Flats Env. Tech. Site

Golden Co: Jefferson CO 80020-

Landholding Agency: Energy

Property Number: 41200220011

Status: Excess

Reasons: Within 2000 ft. of flammable or explosive material; Secured Area

Bldgs. 714, 715, 718

Rocky Flats Env. Tech. Site

Golden Co: Jefferson CO 80020-

Landholding Agency: Energy

Property Number: 41200220012

Status: Excess

Reasons: Within 2000 ft. of flammable or explosive material; Secured Area

Bldgs. 731, 732

Rocky Flats Env. Tech. Site

Golden Co: Jefferson CO 80020-

Landholding Agency: Energy

Property Number: 41200220013

Status: Excess

Reasons: Within 2000 ft. of flammable or explosive material; Secured Area

Bldgs. 881, 881F, 881H

Rocky Flats Env. Tech. Site

Golden Co: Jefferson CO 80020-

Landholding Agency: Energy

Property Number: 41200220018

Status: Excess

Reasons: Within 2000 ft. of flammable or explosive material; Secured Area

Bldgs. 883-885, 887

Rocky Flats Env. Tech. Site

Golden Co: Jefferson CO 80020-

Landholding Agency: Energy

Property Number: 41200220019

Status: Excess

Reasons: Within 2000 ft. of flammable or explosive material; Secured Area

Bldg. 891

Rocky Flats Env. Tech. Site

Golden Co: Jefferson CO 80020-

Landholding Agency: Energy

Property Number: 41200220020

Status: Excess

Reasons: Within 2000 ft. of flammable or explosive material; Secured Area

Bldgs. 120, 120B

Rocky Flats Env. Tech. Site

Golden Co: Jefferson CO 80020-

Landholding Agency: Energy

Property Number: 41200340004

Status: Excess

Reason: Secured Area

Bldgs. 121, 122, 122S

Rocky Flats Env. Tech. Site

Golden Co: Jefferson CO 80020-

Landholding Agency: Energy

Property Number: 41200340005

Status: Excess

Reasons: Within 2000 ft. of flammable or explosive material; Secured Area

Bldg. 223

Rocky Flats Env. Tech. Site

Golden Co: Jefferson CO 80020-

Landholding Agency: Energy

Property Number: 41200340008

Status: Excess

Reasons: Within 2000 ft. of flammable or explosive material; Secured Area

Bldgs. 331, 331A

Rocky Flats Env Tech Site

Golden Co: Jefferson CO 80020-

Landholding Agency: Energy

Property Number: 41200340010

Status: Excess

Reasons: Within 2000 ft. of flammable or explosive material; Secured Area

Bldgs. 444, 445

Rocky Flats Env Tech Site

Golden Co: Jefferson CO 80020-

Landholding Agency: Energy

Property Number: 41200340013

Status: Excess

Reasons: Within 2000 ft. of flammable or explosive material; Secured Area

Bldgs. 447, 448

Rocky Flats Env Tech Site

Golden Co: Jefferson CO 80020-

Landholding Agency: Energy

Property Number: 41200340014

Status: Excess

Reasons: Within 2000 ft. of flammable or explosive material; Secured Area

Bldg. 460

Rocky Flats Env Tech Site

Golden Co: Jefferson CO 80020-

Landholding Agency: Energy

Property Number: 41200340016

Status: Excess

Reasons: Within 2000 ft. of flammable or explosive material; Secured Area

Bldgs. 920, 920B

Rocky Flats Env Tech Site

Golden Co: Jefferson CO 80020-

Landholding Agency: Energy

Property Number: 41200340019

Status: Excess

Reason: Secured Area

Connecticut

Bldgs. 25 and 26

Prospect Hill Road

Windsor Co: Hartford CT 06095-

Landholding Agency: Energy

Property Number: 41199440003

Status: Excess

Reason: Secured Area

9 Bldgs.

Knolls Atomic Power Lab, Windsor Site

Windsor Co: Hartford CT 06095-

Landholding Agency: Energy

Property Number: 41199540004

Status: Excess

Reason: Secured Area

Bldg. 8, Windsor Site

Knolls Atomic Power Lab

Windsor Co: Hartford CT 06095-

Landholding Agency: Energy

Property Number: 41199830006

Status: Unutilized

Reason: Extensive deterioration

Bldg. CT380

Naval Submarine Base

Groton Co: New London CT 06340-

Landholding Agency: Navy

Property Number: 77200510016

Status: Unutilized

Reason: Extensive deterioration

Florida

Bldgs. 1559, 1963

Naval Station

Mayport Co: Duval FL 32228-

Landholding Agency: Navy

Property Number: 77200430008

Status: Unutilized

Reasons: Within 2000 ft. of flammable or explosive material; Secured Area

Bldg. U-150

Naval Air Station

Key West Co: Monroe FL 33040-

Landholding Agency: Navy

Property Number: 77200520044

Status: Excess

Reasons: Secured Area; Extensive deterioration

Georgia

Quarters #7

Chattahoochee River Natl Rec Area

Atlanta Co: Cobb GA 30350-

Landholding Agency: Interior

Property Number: 61200510001

Status: Unutilized

Reason: Extensive deterioration

Bldg. 5101

Naval Submarine Base

Kings Bay Co: Camden GA 31547-

Landholding Agency: Navy

Property Number: 77200520004

Status: Unutilized

Reasons: Floodway; Secured Area; Extensive deterioration

Guam

Bldg. 262

Naval Forces

Marianas Co: Waterfront GU

Landholding Agency: Navy

Property Number: 77200410027

Status: Excess

Reason: Extensive deterioration

Bldg. 369A

Naval Forces

Marianas Co: Waterfront GU

Landholding Agency: Navy

Property Number: 77200410028

Status: Excess

Reason: Extensive deterioration

Bldg. 739

Naval Forces

Marianas Co: Waterfront GU

Landholding Agency: Navy

Property Number: 77200410029

Status: Excess

Reason: Extensive deterioration

Bldg. 741

Naval Forces

Marianas Co: Waterfront GU

Landholding Agency: Navy

Property Number: 77200410030

Status: Excess

Reason: Extensive deterioration

Bldg. 865

Naval Forces

Marianas Co: Waterfront GU

Landholding Agency: Navy

Property Number: 77200410031

Status: Excess

Reason: Extensive deterioration

Bldg. 3011

Naval Forces

Marianas Co: Waterfront GU

Landholding Agency: Navy

Property Number: 77200410032

Status: Excess

Reason: Extensive deterioration

Bldg. 464

Naval Forces

Marianas Co: Waterfront GU

Landholding Agency: Navy

Property Number: 77200410041

Status: Excess

Reason: Extensive deterioration

Bldgs. 122, 171, 198

U.S. Naval Forces

Dededo Co: GU 96540-

Landholding Agency: Navy

Property Number: 77200510001

Status: Unutilized

Reason: Secured Area

Bldg. 224B

U.S. Naval Forces

Dededo Co: GU 96540-

Landholding Agency: Navy

Property Number: 77200510002

Status: Unutilized

Reason: Secured Area

Bldgs. 286, 295

U.S. Naval Forces

Dededo Co: GU 96540-

Landholding Agency: Navy

Property Number: 77200510003

Status: Unutilized

Reason: Secured Area

Bldgs. 304, 322, 387

U.S. Naval Forces

Dededo Co: GU 96540-

Landholding Agency: Navy

Property Number: 77200510004

Status: Unutilized

Reason: Secured Area

Bldgs. 451, 454

U.S. Naval Forces

Dededo Co: GU 96540-

Landholding Agency: Navy

Property Number: 77200510005

Status: Unutilized

Reason: Secured Area

Bldg. 467

U.S. Naval Forces

Dededo Co: GU 96540-

Landholding Agency: Navy

Property Number: 77200510006

Status: Unutilized

Reason: Secured Area

Bldgs. 488, 489

U.S. Naval Forces

Dededo Co: GU 96540-

Landholding Agency: Navy

Property Number: 77200510007

Status: Unutilized

Reason: Secured Area

Bldg. FH5

Naval Forces

Marianas Co: GU

Landholding Agency: Navy

Property Number: 77200520022

Status: Unutilized

Reason: Extensive deterioration

Bldg. B-32

Naval Forces

Marianas Co: GU

Landholding Agency: Navy

Property Number: 77200520023

Status: Unutilized

Reason: Extensive deterioration

Bldgs. 76, 77, 79

Naval Forces

Marianas Co: GU

Landholding Agency: Navy

Property Number: 77200520024

Status: Unutilized

Reason: Extensive deterioration

4 Bldgs.

Naval Forces 261, 262, 263, 269

Marianas Co: GU

Landholding Agency: Navy

Property Number: 77200520025

Status: Unutilized

Reason: Extensive deterioration

Bldg. 404NM

Naval Forces

Marianas Co: GU

Landholding Agency: Navy

Property Number: 77200520026

Status: Unutilized

Reason: Extensive deterioration

Bldgs. 635 thru 640

Naval Forces

Marianas Co: GU

Landholding Agency: Navy

Property Number: 77200520027

Status: Unutilized

Reason: Extensive deterioration

Bldg. 1964

Naval Forces

Marianas Co: GU

Landholding Agency: Navy

Property Number: 77200520028

Status: Unutilized

Reason: Extensive deterioration

Bldgs. 2013, 2014

Naval Forces

Marianas Co: GU

Landholding Agency: Navy

Property Number: 77200520029

Status: Unutilized

Reason: Extensive deterioration

Bldgs. 3150, 3268

Naval Forces

Marianas Co: GU

Landholding Agency: Navy

Property Number: 77200520030

Status: Unutilized

Reason: Extensive deterioration

Bldgs. 5409, 5412, 5413

Naval Forces

Marianas Co: GU

Landholding Agency: Navy

Property Number: 77200520031

Status: Unutilized

Reason: Extensive deterioration

Bldg. 5500

Naval Forces

Marianas Co: GU

Landholding Agency: Navy

Property Number: 77200520032

Status: Unutilized

Reason: Extensive deterioration

73 Bldgs.

Naval Computer & Telecommunications Station

Marianas Co: GU

Location: A700-A716, A725, A728, A735, A741-A784, A803-A805, A811-A813, A829-A831

Landholding Agency: Navy

Property Number: 77200520045

Status: Excess

Reasons: Secured Area; Extensive deterioration

Bldg. 24

Naval Ship Repair Facility

Marianas Co: GU

Landholding Agency: Navy

Property Number: 77200520046

Status: Excess

Reasons: Secured Area; Extensive deterioration

Bldgs. 39, 42

Naval Ship Repair Facility

Marianas Co: GU

Landholding Agency: Navy

Property Number: 77200520047

Status: Excess

Reasons: Secured Area; Extensive deterioration

Bldgs. 2006, 2009

Naval Ship Repair Facility

Marianas Co: GU

Landholding Agency: Navy

Property Number: 77200520048

Status: Excess

Reasons: Secured Area; Extensive deterioration

Bldgs. 2014, 2916

Naval Ship Repair Facility

Marianas Co: GU

Landholding Agency: Navy

Property Number: 77200520049

Status: Excess

Reasons: Secured Area; Extensive deterioration

Bldg. 2031

Naval Ship Repair Facility

Marianas Co: GU

Landholding Agency: Navy

Property Number: 77200520050

Status: Excess

Reasons: Secured Area; Extensive deterioration

Bldgs. 2056, 2057

Naval Ship Repair Facility

Marianas Co: GU

Landholding Agency: Navy

Property Number: 77200520051

Status: Excess

Reasons: Secured Area; Extensive deterioration

Bldg. 2064

Naval Ship Repair Facility

Marianas Co: GU

Landholding Agency: Navy

Property Number: 77200520052

Status: Excess

Reasons: Secured Area; Extensive deterioration

Bldgs. 2073, 2077

Naval Ship Repair Facility

Marianas Co: GU

Landholding Agency: Navy

Property Number: 77200520053

Status: Excess

Reasons: Secured Area; Extensive deterioration

Hawaii

Bldg. 621

Naval Station, Pearl Harbor

Honolulu HI 96860-

Landholding Agency: Navy

Property Number: 77200310001

Status: Excess

Reason: Extensive deterioration

Bldg. 517

Naval Station

Beckoning Point

Pearl Harbor Co: Honolulu HI 96860-

Landholding Agency: Navy

Property Number: 77200430010

Status: Excess

Reason: Extensive deterioration

Bldg. 79

Naval Station

Ford Island Co: Pearl Harbor HI 96860-

Landholding Agency: Navy

Property Number: 77200430029

Status: Underutilized

Reason: Secured Area

Bldg. 62NS

Naval Station

Beckoning Point

Pearl Harbor Co: Honolulu HI 96860-

Landholding Agency: Navy

Property Number: 77200440003

Status: Unutilized

Reason: Secured Area

Bldg. 63NS

Naval Station

Beckoning Point

Pearl Harbor Co: Honolulu HI 96860-

Landholding Agency: Navy

Property Number: 77200440004

Status: Unutilized

Reason: Secured Area

Moanalua Community

Church Parsonage

Pearl Harbor Co: Honolulu HI 96860-

Landholding Agency: Navy

Property Number: 77200530034

Status: Unutilized

Reason: Extensive deterioration

Bldgs. 1188, 1239

Fleet Industrial Supply Center

Pearl Harbor Co: Honolulu HI 96860-

Landholding Agency: Navy

Property Number: 77200530035

Status: Excess

Reason: Extensive deterioration

Bldg. 1143

Naval Station

Barbers Point Co: Honolulu HI 96707-

Landholding Agency: Navy

Property Number: 77200530036

Status: Unutilized

Reason: Extensive deterioration

Idaho

Bldg. CPP-691

Idaho National Engineering Laboratory

Scoville Co: Butte ID 83415-

Landholding Agency: Energy

Property Number: 41199610003

Status: Unutilized

Reason: Secured Area

Bldg. TAN-636

Idaho National Engineering Laboratory

Scoville Co: Butte ID 83415-

Landholding Agency: Energy

Property Number: 41199610008

Status: Unutilized

Reason: Secured Area

Bldg. TAN-670

Idaho National Engineering Laboratory

Scoville Co: Butte ID 83415-

Landholding Agency: Energy

Property Number: 41199610010

Status: Unutilized

Reason: Secured Area

Bldg. TRA-669

Idaho National Engineering Laboratory

Scoville Co: Butte ID 83415-

Landholding Agency: Energy

Property Number: 41199610013

Status: Unutilized

Reason: Secured Area

Bldg. TAN-637

Idaho National Engineering Laboratory

Scoville Co: Butte ID 83415-

Landholding Agency: Energy

Property Number: 41199610014

Status: Unutilized

Reason: Secured Area

Bldg. TAN-651

Idaho National Engineering Laboratory

Scoville Co: Butte ID 83415-

Landholding Agency: Energy

Property Number: 41199610017

Status: Unutilized

Reason: Secured Area

Bldg. TRA-673

Idaho National Engineering Laboratory

Scoville Co: Butte ID 83415-

Landholding Agency: Energy

Property Number: 41199610018

Status: Unutilized

Reason: Secured Area

Bldg. PBF-620

Idaho National Engineering Laboratory

Scoville Co: Butte ID 83415-

Landholding Agency: Energy

Property Number: 41199610019

Status: Unutilized

Reason: Secured Area

Bldg. PBF-619

Idaho National Engineering Laboratory

Scoville Co: Butte ID 83415-

Landholding Agency: Energy

Property Number: 41199610022

Status: Unutilized

Reason: Secured Area

Bldg. PBF-625

Idaho National Engineering Laboratory

Scoville Co: Butte ID 83415-

Landholding Agency: Energy

Property Number: 41199610024

Status: Unutilized

Reason: Secured Area

Bldg. PBF-629

Idaho National Engineering Laboratory

Scoville Co: Butte ID 83415-

Landholding Agency: Energy

Property Number: 41199610025

Status: Unutilized

Reason: Secured Area

Bldg. PBF-604

Idaho National Engineering Laboratory

Scoville Co: Butte ID 83415-

Landholding Agency: Energy

Property Number: 41199610026

Status: Unutilized

Reason: Secured Area

Bldg. TRA-641

Idaho National Engineering Laboratory

Scoville Co: Butte ID 83415-

Landholding Agency: Energy

Property Number: 41199610034

Status: Unutilized

Reason: Secured Area

Bldg. CF-606

Idaho National Engineering Laboratory

Scoville Co: Butte ID 83415-

Landholding Agency: Energy

Property Number: 41199610037

Status: Unutilized

Reason: Secured Area

8 Bldgs.

Idaho Natl Engineering & Environmental Lab

Test Reactor North

Scovile Co: Butte ID 83415-

Location: TRA 643, 644, 655, 660, 704-706, 755

Landholding Agency: Energy

Property Number: 41199830003

Status: Excess

Reasons: Within 2000 ft. of flammable or explosive material; Secured Area

Bldg. CPDTB1

Idaho Natl Eng & Env Lab

Scoville Co: Butte ID 83415-

Landholding Agency: Energy

Property Number: 41200410009

Status: Excess

Reason: Secured Area

Bldg. CPP620A

Idaho Natl Eng & Env Lab

Scoville Co: Butte ID 83415-

Landholding Agency: Energy

Property Number: 41200410012

Status: Excess

Reason: Secured Area

Bldg. CPP637/620

Idaho Natl Eng & Env Lab

Scoville Co: Butte ID 83415-

Landholding Agency: Energy

Property Number: 41200410013

Status: Excess

Reason: Secured Area

Bldgs. CPP638, CPP642

Idaho Natl Eng & Env Lab

Scoville Co: Butte ID 83415-

Landholding Agency: Energy

Property Number: 41200410014

Status: Excess

Reason: Secured Area

Bldg. CPP 743

Idaho Natl Eng & Env lab

Scoville Co: Butte ID 83415-

Landholding Agency: Energy

Property Number: 41200410020

Status: Excess

Reason: Secured Area

Bldgs. CPP1647, 1653

Idaho Natl Eng & Env Lab

Scoville Co: Butte ID 83415-

Landholding Agency: Energy

Property Number: 41200410022

Status: Excess

Reason: Secured Area

Bldg. CPP1677

Idaho Natl Eng & Env Lab

Scoville Co: Butte ID 83415-

Landholding Agency: Energy

Property Number: 41200410023

Status: Excess

Reason: Secured Area

Bldgs. TAN640, TAN641

Idaho Natl Eng & Env Lab

Scoville Co: Butte ID 83415-

Landholding Agency: Energy

Property Number: 41200410024

Status: Excess

Reason: Secured Area

Bldgs. TAN645, TAN646

Idaho Natl Eng & Env Lab

Scoville Co: Butte ID 83415-

Landholding Agency: Energy

Property Number: 41200410026

Status: Excess

Reason: Secured Area

Bldg. TAN731

Idaho Natl Eng & Env Lab

Scoville Co: Butte ID 83415-

Landholding Agency: Energy

Property Number: 41200410028

Status: Excess

Reason: Secured Area

Bldg. Tan 624

Idaho Natl Eng & Env Lab

Scoville Co: Butte ID 83415

Landholding Agency: Energy

Property Number: 41200410031

Status: Excess

Reason: Secured Area

Bldgs. Tan 630, Tan 633

Idaho Natl Eng & Env Lab

Scoville Co: Butte ID 83415-

Landholding Agency: Energy

Property Number: 41200410032

Status: Excess

Reason: Secured Area

Bldgs. Tan 649, Tan 650

Idaho Natl Eng & Env Lab

Scoville Co: Butte ID 83415-

Landholding Agency: Energy

Property Number: 41200410033

Status: Excess

Reason: Secured Area

Bldg. 694

Idaho Natl Eng & Env Lab

Scoville Co: Butte ID 83415-

Landholding Agency: Energy

Property Number: 41200410034

Status: Excess

Reason: Secured Area

Bldg. Tan 719

Idaho Natl Eng & Env Lab

Scoville Co: ID 83415-

Landholding Agency: Energy

Property Number: 41200410035

Status: Excess

Reason: Secured Area

Bldgs. Tan 725, Tan 726

Idaho Natl Eng & Env Lab

Scoville Co: Butte ID 83415-

Landholding Agency: Energy

Property Number: 41200410036

Status: Excess

Reason: Secured Area

Bldg. TRA 647

Idaho Natl Eng & Env Lab

Scoville Co: Butte ID 83415-

Landholding Agency: Energy

Property Number: 41200420006

Status: Excess

Reason: Secured Area

Bldgs. TRA651, TRA656

Idaho Natl Eng & Env Lab

Scoville Co: Butte ID 83415-

Landholding Agency: Energy

Property Number: 41200420007

Status: Excess

Reason: Secured Area

Bldg. TRA 663

Idaho Natl Eng & Env Lab

Scoville Co: Butte ID 83415-

Landholding Agency: Energy

Property Number: 41200420008

Status: Excess

Reason: Secured Area

Bldg. TRA 779

Idaho Natl Eng & Env Lab

Scoville Co: Butte ID 83415-

Landholding Agency: Energy

Property Number: 41200420009

Status: Excess

Reason: Secured Area

Bldg. PBF 731

Idaho Natl Eng & Env Laboratory

Scovile Co: Butte ID 83415-

Landholding Agency: Energy

Property Number: 41200420023

Status: Excess

Reason: Secured Area

Bldgs. CPP1604-CPP1608

Idaho National Eng & Env Lab

Scoville Co: Butte ID 83415-

Landholding Agency: Energy

Property Number: 41200430071

Status: Excess

Reason: Secured Area

Bldgs. CPP1617-CPP1619

Idaho National Eng & Env Lab

Scoville Co: Butte ID 83415-

Landholding Agency: Energy

Property Number: 41200430072

Status: Excess

Reason: Secured Area

6 Bldgs.

Idaho National Eng & Env Lab

Scoville Co: Butte ID 83415-

Location: CPP1631, CPP1634, CPP1635, CPP1636, CPP1637, CPP1638

Landholding Agency: Energy

Property Number: 41200430073

Status: Excess

Reason: Secured Area

5 Bldgs.

Idaho National Eng & Env Lab

Scoville Co: Butte ID 83415-

Location: CPP1642, CPP1643, CPP1644, CPP1646, CPP1649

Landholding Agency: Energy

Property Number: 41200430074

Status: Excess

Reason: Secured Area

3 Bldgs.

Idaho National Eng & Env Lab

Scoville Co: Butte ID 83415-

Location: CPP1650, CPP1651, CPP1656

Landholding Agency: Energy

Property Number: 41200430075

Status: Excess

Reason: Secured Area

5 Bldgs.

Idaho National Eng & Env Lab

Scoville Co: Butte ID 83415-

Location: CPP1662, CPP1663, CPP1671, CPP1673, CPP1674

Landholding Agency: Energy

Property Number: 41200430076

Status: Excess

Reason: Secured Area

5 Bldgs.

Idaho National Eng & Env Lab

Scoville Co: Butte ID 83415-

Location: CPP1678, CPP1682, CPP1683, CPP1684, CPP1686

Landholding Agency: Energy

Property Number: 41200430077

Status: Excess

Reason: Secured Area

5 Bldgs.

Idaho National Eng & Env Lab

Scoville Co: Butte ID 83415-

Location: CPP1713, CPP1749, CPP1750, CPP1767, CPP1769

Landholding Agency: Energy

Property Number: 41200430078

Status: Excess

Reason: Secured Area

5 Bldgs.

Idaho National Eng & Env Lab

Scoville Co: Butte ID 83415-

Location: CPP1770, CPP1771, CPP1772, CPP1774, CPP1776

Landholding Agency: Energy

Property Number: 41200430079

Status: Excess

Reason: Secured Area

4 Bldgs.

Idaho National Eng & Env Lab

Scoville Co: Butte ID 83415-

Location: CPP1778, CPP1779, CPP1780, CPP1784

Landholding Agency: Energy

Property Number: 41200430080

Status: Excess

Reason: Secured Area

4 Bldgs.

Idaho National Eng & Env Lab

Scoville Co: Butte ID 83415-

Location: CPP1789, CPP1790, CPP1792, CPP1794

Landholding Agency: Energy

Property Number: 41200430081

Status: Excess

Reason: Secured Area

Bldgs. CPP2701, CPP2706

Idaho National Eng & Env Lab

Scoville Co: Butte ID 83415-

Landholding Agency: Energy

Property Number: 41200430082

Status: Excess

Reason: Secured Area

3 Bldgs.

Idaho National Eng & Env Lab

Scoville Co: Butte ID 83415-

Location: TRA603, TRA604, TRA610

Landholding Agency: Energy

Property Number: 41200430089

Status: Excess

Reason: Secured Area

Bldg. TAN611

Idaho National Eng & Env Lab

Scoville Co: Butte ID 83415-

Landholding Agency: Energy

Property Number: 41200430090

Status: Excess

Reason: Secured Area

5 Bldgs.

Idaho National Eng & Env Lab

Scoville Co: Butte ID 83415-

Location: TRA626, TRA635, TRA642, TRA648, TRA654

Landholding Agency: Energy

Property Number: 41200430091

Status: Excess

Reason: Secured Area

Bldg. TAN655

Idaho National Eng & Env Lab

Scoville Co: Butte ID 83415-

Landholding Agency: Energy

Property Number: 41200430092

Status: Excess

Reason: Secured Area

3 Bldgs.

Idaho National Eng & Env Lab

Scoville Co: Butte ID 83415-

Location: TRA657, TRA661, TRA668

Landholding Agency: Energy

Property Number: 41200430093

Status: Excess

Reason: Secured Area

Bldg. TAN711

Idaho National Eng & Env Lab

Scoville Co: Butte ID 83415-

Landholding Agency: Energy

Property Number: 41200430094

Status: Excess

Reason: Secured Area

6 Bldgs.

Idaho National Eng & Env Lab

Scoville Co: Butte ID 83415-

Location: CPP602-CPP606, CPP609

Landholding Agency: Energy

Property Number: 41200430095

Status: Excess

Reason: Secured Area

5 Bldgs.

Idaho National Eng & Env Lab

Scoville Co: Butte ID 83415-

Location: CPP611-CPP614, CPP616

Landholding Agency: Energy

Property Number: 41200430096

Status: Excess

Reason: Secured Area

4 Bldgs.

Idaho National Eng & Env Lab

Scoville Co: Butte ID 83415-

Location: CPP621, CPP626, CPP630, CPP639

Landholding Agency: Energy

Property Number: 41200430097

Status: Excess

Reason: Secured Area

4 Bldgs.

Idaho National Eng & Env Lab

Scoville Co: Butte ID 83415-

Location: CPP641, CPP644, CPP645, CPP649

Landholding Agency: Energy

Property Number: 41200430098

Status: Excess

Reason: Secured Area

Bldgs. CPP651-CPP655

Idaho National Eng & Env Lab

Scoville Co: Butte ID 83415-

Landholding Agency: Energy

Property Number: 41200430099

Status: Excess

Reason: Secured Area

Bldgs. CPP659-CPP663

Idaho National Eng & Env Lab

Scoville Co: Butte ID 83415-

Landholding Agency: Energy

Property Number: 41200440001

Status: Excess

Reason: Secured Area

Bldgs. CPP666, CPP668

Idaho Naitonal Eng & Env Lab

Scoville Co: Butte ID 83415-

Landholding Agency: Energy

Property Number: 41200440002

Status: Excess

Reason: Secured Area

3 Bldgs.

Idaho National Eng & Env Lab

Scoville Co: Butte ID 83415-

Location: CPP674, CPP675, CPP679

Landholding Agency: Energy

Property Number: 41200440003

Status: Excess

Reason: Secured Area

1 Bldg.

Idaho National Eng & Env Lab

Scoville Co: Butte ID 83415-

Location: CPP684

Landholding Agency: Energy

Property Number: 41200440004

Status: Excess

Reason: Secured Area

5 Bldgs.

Idaho National Eng & Env Lab

Scoville Co: Butte ID 83415-

Location: CPP692, CPP694, CPP697-CPP699

Landholding Agency: Energy

Property Number: 41200440005

Status: Excess

Reason: Secured Area

3 Bldgs.

Idaho National Eng & Env Lab

Scoville Co: Butte ID 83415-

Location: CPP701, CPP701A, CPP708

Landholding Agency: Energy

Property Number: 41200440006

Status: Excess

Reason: Secured Area

Bldgs. 711, 719A

Idaho National Eng & Env Lab

Scoville Co: Butte ID 83415-

Landholding Agency: Energy

Property Number: 41200440007

Status: Excess

Reason: Secured Area

4 Bldgs.

Idaho National Eng & Env Lab

Scoville Co: Butte ID 83415-

Location: CPP724-CPP726, CPP728

Landholding Agency: Energy

Property Number: 41200440008

Status: Excess

Reason: Secured Area

Bldg. CPP729/741

Idaho National Eng & Env Lab

Scoville Co: Butte ID 83415-

Landholding Agency: Energy

Property Number: 41200440012

Status: Excess

Reason: Secured Area

Bldgs. CPP733, CPP736

Idaho National Eng & Env Lab

Scoville Co: Butte ID 83415-

Landholding Agency: Energy

Property Number: 41200440013

Status: Excess

Reason: Secured Area

Bldgs. CPP740, CPP742

Idaho National Eng & Env Lab

Scoville Co: Butte ID 83415-

Landholding Agency: Energy

Property Number: 41200440014

Status: Excess

Reason: Secured Area

Bldgs. CPP746, CPP748

Idaho National Eng & Env Lab

Scoville Co: Butte ID 83415-

Landholding Agency: Energy

Property Number: 41200440015

Status: Excess

Reason: Secured Area

3 Bldgs.

Idaho National Eng & Env Lab

CPP750, CPP751, CPP752

Scoville Co: Butte ID 83415-

Landholding Agency: Energy

Property Number: 41200440016

Status: Excess

Reason: Secured Area

3 Bldgs.

Idaho National Eng & Env Lab

CPP753, CPP753A, CPP754

Scoville Co: Butte ID 83415-

Landholding Agency: Energy

Property Number: 41200440017

Status: Excess

Reason: Secured Area

Bldgs. CPP760, CPP763

Idaho National Eng & Env Lab

Scoville Co: Butte ID 83415-

Landholding Agency: Energy

Property Number: 41200440018

Status: Excess

Reason: Secured Area

Bldgs. CPP764, CPP765

Idaho National Eng & Env Lab

Scoville Co: Butte ID 83415-

Landholding Agency: Energy

Property Number: 41200440019

Status: Excess

Reason: Secured Area

Bldgs. CPP767, CPP768

Idaho National Eng & Env Lab

Scoville Co: Butte ID 83415-

Landholding Agency: Energy

Property Number: 41200440020

Status: Excess

Reason: Secured Area

Bldgs. CPP791, CPP795

Idaho National Eng & Env Lab

Scoville Co: Butte ID 83415-

Landholding Agency: Energy

Property Number: 41200440021

Status: Excess

Reason: Secured Area

3 Bldgs.

Idaho National Eng & Env Lab

CPP796, CPP797, CPP799

Scoville Co: Butte ID 83415-

Landholding Agency: Energy

Property Number: 41200440022

Status: Excess

Reason: Secured Area

Bldgs. CPP701B, CPP719

Idaho National Eng & Env Lab

Scoville Co: Butte ID 83415-

Landholding Agency: Energy

Property Number: 41200440023

Status: Excess

Reason: Secured Area

Bldgs. CPP720A, CPP720B

Idaho National Eng & Env Lab

Scoville Co: Butte ID 83415-

Landholding Agency: Energy

Property Number: 41200440024

Status: Excess

Reason: Secured Area

Bldg. CPP1781

Idaho National Eng & Env Lab

Scoville Co: Butte ID 83415-

Landholding Agency: Energy

Property Number: 41200440025

Status: Excess

Reason: Secured Area

2 Bldgs.

Idaho National Eng & Env Lab

CPP0000VES-UTI-111, VES-UTI-112

Scoville Co: Butte ID 83415-

Landholding Agency: Energy

Property Number: 41200440026

Status: Excess

Reason: Secured Area

3 Bldgs.

Idaho National Eng & Env Lab

TAN607, TAN666, TAN668

Scoville Co: Butte ID 83415-

Landholding Agency: Energy

Property Number: 41200440027

Status: Excess

Reason: Secured Area

Bldgs. TAN704, TAN733

Idaho National Eng & Env Lab

Scoville Co: Butte ID 83415-

Landholding Agency: Energy

Property Number: 41200440028

Status: Excess

Reason: Secured Area

Bldgs. TAN1611, TAN1614

Idaho National Eng & Env Lab

Scoville Co: Butte ID 83415-

Landholding Agency: Energy

Property Number: 41200440029

Status: Excess

Reason: Secured Area

Bldgs. CF604, CF680

Idaho Natl Eng & Env Lab

Scoville Co: Butte ID 83415-

Landholding Agency: Energy

Property Number: 41200440034

Status: Excess

Reason: Secured Area

Bldg. TRA 618

Idaho National Laboratory

Scoville Co: Butte ID 83415-

Landholding Agency: Energy

Property Number: 41200510005

Status: Excess

Reason: Extensive deterioration

Bldg. CF633

Idaho Natl Laboratory

Scoville Co: Butte ID 83415-

Landholding Agency: Energy

Property Number: 41200520005

Status: Excess

Reason: Extensive deterioration

Bldg. 0708

Middleton Co: Canyon ID 83644-

Landholding Agency: Interior

Property Number: 61200420005

Status: Unutilized

Reason: Extensive deterioration

Bldg. 0709

Middleton Co: Canyon ID 83644-

Landholding Agency: Interior

Property Number: 61200420006

Status: Unutilized

Reason: Extensive deterioration

Bldg. 0717

Fruitland Co: Payette ID 83619-

Landholding Agency: Interior

Property Number: 61200420007

Status: Unutilized

Reason: Extensive deterioration

Illinois

Trailers 009 & T023

FERMILAB

Batavia Co: DuPage IL 60510-

Landholding Agency: Energy

Property Number: 41200520001

Status: Excess

Reason: Extensive deterioration

Trailers 115, T158

FERMILAB

Batavia Co: DuPage IL 60510-

Landholding Agency: Energy

Property Number: 41200520002

Status: Excess

Reason: Extensive deterioration

Bldgs. 144-147

FERMILAB

Batavia Co: DuPage IL 60510-

Landholding Agency: Energy

Property Number: 41200520003

Status: Excess

Reason: Extensive deterioration

Bldg. 325C

Argonne National Laboratory

Argonne Co: DuPage IL 60439-

Landholding Agency: Energy

Property Number: 41200520004

Status: Excess

Reason: Secured Area

#903 Site 3

FERMILAB

Batavia Co: DuPage IL 60510-

Landholding Agency: Energy

Property Number: 41200520006

Status: Excess

Reason: Extensive deterioration

#951 Site 50

FERMILAB

Batavia Co: DuPage IL 60510-

Landholding Agency: Energy

Property Number: 41200520007

Status: Excess

Reason: Extensive deterioration

#993 Site 65

FERMILAB

Batavia Co: DuPage IL 60510-

Landholding Agency: Energy

Property Number: 41200520008

Status: Excess

Reason: Extensive deterioration

Trailer 072

FERMILAB

Batavia Co: DuPage IL 60510-

Landholding Agency: Energy

Property Number: 41200520009

Status: Excess

Reason: Extensive deterioration

Bldgs. 3220, 3221

Naval Station

Great Lakes Co: IL 60088-

Landholding Agency: Navy

Property Number: 77200440008

Status: Excess

Reason: Extensive deterioration

Bldgs. 3311, 3312

Naval Station

Great Lakes Co: IL 60088-

Landholding Agency: Navy

Property Number: 77200510008

Status: Excess

Reason: Extensive deterioration

Bldg. 42

Naval Station

Great Lakes Co: IL 60088-

Landholding Agency: Navy

Property Number: 77200520055

Status: Excess

Reasons: Secured Area; Extensive deterioration

Indiana

Bldg. 2780

Naval Support Activity

Crane Co: Martin IN 47522-

Landholding Agency: Navy

Property Number: 77200430015

Status: Excess

Reasons: Within 2000 ft. of flammable or explosive material; Secured Area; Extensive deterioration

Bldg. 2893

Naval Support Activity

Crane Co: Martin IN 47522-

Landholding Agency: Navy

Property Number: 77200430016

Status: Excess

Reasons: Within 2000 ft. of flammable or explosive material; Secured Area; Extensive deterioration

Bldgs. 113, 114

Naval Support Activity

Crane Co: Martin IN 47522-

Landholding Agency: Navy

Property Number: 77200430017

Status: Excess

Reasons: Within 2000 ft. of flammable or explosive material; Secured Area; Extensive deterioration

Bldg. 181

Naval Support Activity

Crane Co: Martin IN 47522-

Landholding Agency: Navy

Property Number: 77200430018

Status: Excess

Reasons: Within 2000 ft. of flammable or explosive material; Secured Area; Extensive deterioration

Bldg. 2109

Naval Support Activity

Crane Co: Martin IN 47522-

Landholding Agency: Navy

Property Number: 77200430019

Status: Excess

Reasons: Within 2000 ft. of flammable or explosive material; Secured Area; Extensive deterioration

Bldg. 2777

Naval Support Activity

Crane Co: Martin IN 47522-

Landholding Agency: Navy

Property Number: 77200430020

Status: Excess

Reasons: Within 2000 ft. of flammable or explosive material; Secured Area; Extensive deterioration

Bldg. 2889

Naval Support Activity

Crane Co: Martin IN 47522-

Landholding Agency: Navy

Property Number: 77200430021

Status: Excess

Reasons: Within 2000 ft. of flammable or explosive material; Secured Area; Extensive deterioration

Bldg. 2926

Naval Support Activity

Crane Co: Martin IN 47522-

Landholding Agency: Navy

Property Number: 77200430022

Status: Excess

Reasons: Within 2000 ft. of flammable or explosive material; Secured Area; Extensive deterioration

Bldg. 3207

Naval Support Activity

Crane Co: Martin IN 47522-

Landholding Agency: Navy

Property Number: 77200430023

Status: Excess

Reasons: Within 2000 ft. of flammable or explosive material; Secured Area; Extensive deterioration

Louisiana

Weeks Island Facility

New Iberia Co: Iberia Parish LA 70560-

Landholding Agency: Energy

Property Number: 41199610038

Status: Underutilized

Reason: Secured Area

Maine

Bldg. M-6

Portsmouth Naval Shipyard

Kittery Co: York ME 03904-

Landholding Agency: Navy

Property Number: 77200240013

Status: Excess

Reason: Secured Area

Bldg. M-9

Portsmouth Naval Shipyard

Kittery Co: York ME 03904-

Landholding Agency: Navy

Property Number: 77200240014

Status: Excess

Reason: Secured Area

Bldg. M-10

Portsmouth Naval Shipyard

Kittery Co: York ME 0390-4

Landholding Agency: Navy

Property Number: 77200240015

Status: Excess

Reason: Secured Area

Bldg. M-11

Portsmouth Naval Shipyard

Kittery Co: York ME 03904-

Landholding Agency: Navy

Property Number: 77200240016

Status: Excess

Reason: Secured Area

Bldg. M-18

Portsmouth Naval Shipyard

Kittery Co: York ME 03904-

Landholding Agency: Navy

Property Number: 77200240017

Status: Excess

Reason: Secured Area

Bldg. H-29

Portsmouth Naval Shipyard

Kittery Co: York ME 03904-

Landholding Agency: Navy

Property Number: 77200240018

Status: Excess

Reasons: Within 2000 ft. of flammable or explosive material; Secured Area

Bldg. 33

Portsmouth Naval Shipyard

Kittery Co: York ME 03904-

Landholding Agency: Navy

Property Number: 77200240019

Status: Excess

Reason: Secured Area

Bldg. 34

Portsmouth Naval Shipyard

Kittery Co: York ME 03904-

Landholding Agency: Navy

Property Number: 77200240020

Status: Excess

Reason: Secured Area

Bldg. 41

Portsmouth Naval Shipyard

Kittery Co: York ME 03904-

Landholding Agency: Navy

Property Number: 77200240021

Status: Excess

Reason: Secured Area

Bldg. 55

Portsmouth Naval Shipyard

Kittery Co: York ME 03904-

Landholding Agency: Navy

Property Number: 77200240022

Status: Excess

Reason: Secured Area

Bldg. 62/62A

Portsmouth Naval Shipyard

Kittery Co: York ME 03904-

Landholding Agency: Navy

Property Number: 77200240023

Status: Excess

Reason: Secured Area

Bldg. 63

Portsmouth Naval Shipyard

Kittery Co: York ME 03904-

Landholding Agency: Navy

Property Number: 77200240024

Status: Excess

Reason: Secured Area

Bldg. 65

Portsmouth Naval Shipyard

Kittery Co: York ME 03904-

Landholding Agency: Navy

Property Number: 77200240025

Status: Excess

Reason: Secured Area

Bldg. 158

Portsmouth Naval Shipyard

Kittery Co: York ME 03904-

Landholding Agency: Navy

Property Number: 77200240026

Status: Excess

Reasons: Within 2000 ft. of flammable or explosive material; Secured Area

Bldg. 188

Portsmouth Naval Shipyard

Kittery Co: York ME 03904-

Landholding Agency: Navy

Property Number: 77200240027

Status: Excess

Reason: Secured Area

Bldg. 189

Portsmouth Naval Shipyard

Kittery Co: York ME 03904-

Landholding Agency: Navy

Property Number: 77200240028

Status: Excess

Reason: Secured Area

Bldg. 237

Portsmouth Naval Shipyard

Kittery Co: York ME 03904-

Landholding Agency: Navy

Property Number: 77200240029

Status: Excess

Reason: Secured Area

Bldg. 150

Portsmouth Naval Shipyard

Kittery Co: York ME

Landholding Agency: Navy

Property Number: 77200340040

Status: Excess

Reason: Extensive deterioration

Bldg. M-17

Portsmouth Naval Shipyard

York Co: Kittery ME 03904-

Landholding Agency: Navy

Property Number: 77200520057

Status: Excess

Reason: Secured Area

Bldg. 288

Portsmouth Naval Shipyard

York Co: Kittery ME 03904-

Landholding Agency: Navy

Property Number: 77200520058

Status: Excess

Reasons: Within 2000 ft. of flammable or explosive material; Secured Area

Bldgs. 344, 346

Portsmouth Naval Shipyard

York Co: Kittery ME 03904-

Landholding Agency: Navy

Property Number: 77200520059

Status: Excess

Reasons: Within 2000 ft. of flammable or explosive material; Secured Area

Maryland

Tract 399-24

Appalachian Trail

Cascade Co: Washington MD 21719-

Landholding Agency: Interior

Property Number: 61200430019

Status: Unutilized

Reason: Extensive deterioration

Structure 145

Naval Surface Warfare Center

Bethesda Co: MD 20817-5700

Landholding Agency: Navy

Property Number: 77200520015

Status: Unutilized

Reasons: Within 2000 ft. of flammable or explosive material; Secured Area

Ft. Washington Facility

Interagency Training Center

Ft. Washington Co: Prince George MD 20744-5821

Landholding Agency: Navy

Property Number: 77200520021

Status: Underutilized

Reason: Secured Area

Massachusetts

Jaquith House

National Seashore

Eastham Co: Barnstable MA

Landholding Agency: Interior

Property Number: 61200430017

Status: Unutilized

Reason: Extensive deterioration

Mississippi

Tracts 06-156, 06-152, 06-153

National Military Park

Vicksburg Co: Warren MS 39180-

Landholding Agency: Interior

Property Number: 61200520013

Status: Unutilized

Reason: Extensive deterioration

Montana

Bldg.

Tiber Dam

Chester Co: Liberty MT 59522-

Landholding Agency: Interior

Property Number: 61200410005

Status: Excess

Reason: Extensive deterioration

Nevada

28 Facilities

Nevada Test Site

Mercury Co: Nye NV 89023-

Landholding Agency: Energy

Property Number: 41200310018

Status: Excess

Reasons: Contamination; Secured Area

31 Bldgs./Facilities

Nellis AFB

Tonopah Test Range

Tonopah Co: Nye NV 89049-

Landholding Agency: Energy

Property Number: 41200330003

Status: Unutilized

Reason: Secured Area

42 Bldgs.

Nellis Air Force Base

Tonopah Co: Nye NV 89049-

Location: 49-01, NM104, NM105, 03-35A-H, 03-35J-N, 03-36A-C, 03-36E-H, 03-36J-N, 03-36R, 03-37, 15036, 03-44A-D, 03-46, 03-47, 03-49, 03-88, 03-89, 03-90

Landholding Agency: Energy

Property Number: 41200410029

Status: Unutilized

Reason: Secured Area

241 Bldgs.

Tonopah Test Range

Tonopah Co: Nye NV 89049-

Landholding Agency: Energy

Property Number: 41200440036

Status: Excess

Reasons: Within 2000 ft. of flammable or explosive material; Secured Area

3 Bldgs.

Nevada Test Site

23-790, 06-CP50, 26-2107

Mercury Co: Nye NV 89023-

Landholding Agency: Navy

Property Number: 77200510025

Status: Excess

Reasons: contamination; Secured Area

New Jersey

Module 3

Calibration Laboratory

Hamilton Co: Mercer NJ 08540-

Landholding Agency: Energy

Property Number: 41200530005

Status: Excess

Reason: Extensive deterioration

Bldg. 263

Naval Air Engineering Station

Lakehurst Co: Ocean NJ 08733-5000

Landholding Agency: Navy

Property Number: 77200310002

Status: Unutilized

Reason: Extensive deterioration

Bldg. GB-1

Naval Weapons Station

Colts Neck NJ 07722-

Landholding Agency: Navy

Property Number: 77200310013

Status: Unutilized

Reason: Extensive deterioration

Bldg. D-5

Naval Weapons Station

Colts Neck NJ 07722-

Landholding Agency: Navy

Property Number: 77200310014

Status: Unutilized

Reason: Extensive deterioration

Bldgs. 437, 443, 506

Naval Air Engineering Station

Lakehurst Co: Ocean NJ 08733-

Landholding Agency: Navy

Property Number: 77200520056

Status: Unutilized

Reason: Extensive deterioration

New Mexico

Bldgs. 9252, 9268

Kirtland Air Force Base

Albuquerque Co: Bernalillo NM 87185-

Landholding Agency: Energy

Property Number: 41199430002

Status: Unutilized

Reason: Extensive deterioration

Tech Area II

Kirtland Air Force Base

Albuquerque Co: Bernalillo NM 87105-

Landholding Agency: Energy

Property Number: 41199630004

Status: Unutilized

Reasons: Within 2000 ft. of flammable or explosive material; Secured Area; Extensive deterioration

Bldg. 26, TA-33

Los Alamos National Laboratory

Los Alamos NM 87545-

Landholding Agency: Energy

Property Number: 41199810004

Status: Unutilized

Reasons: Secured Area; Extensive deterioration

Bldg. 2, TA-21

Los Alamos National Laboratory

Los Alamos NM 87545-

Landholding Agency: Energy

Property Number: 41199810008

Status: Underutilized

Reason: Secured Area

Bldg. 5, TA-21

Los Alamos National Laboratory

Los Alamos NM 87545-

Landholding Agency: Energy

Property Number: 41199810011

Status: Unutilized

Reason: Secured Area

Bldg. 21, TA-21

Los Alamos National Laboratory

Los Alamos NM 87545-

Landholding Agency: Energy

Property Number: 41199810012

Status: Unutilized

Reason: Secured Area

Bldg. 116, TA-21

Los Alamos National Laboratory

Los Alamos NM 87545-

Landholding Agency: Energy

Property Number: 41199810013

Status: Unutilized

Reason: Secured Area

Bldg. 228, TA-21

Los Alamos National Laboratory

Los Alamos NM 87545-

Landholding Agency: Energy

Property Number: 41199810015

Status: Unutilized

Reason: Secured Area

Bldg. 286, TA-21

Los Alamos National Laboratory

Los Alamos NM 87545-

Landholding Agency: Energy

Property Number: 41199810016

Status: Unutilized

Reason: Secured Area

Bldg. 516, TA-16

Los Alamos National Laboratory

Los Alamos NM 87545-

Landholding Agency: Energy

Property Number: 41199810021

Status: Unutilized

Reasons: Within 2000 ft. of flammable or explosive material; Secured Area; Extensive deterioration

Bldg. 517, TA-16

Los Alamos National Laboratory

Los Alamos NM 87545-

Landholding Agency: Energy

Property Number: 41199810022

Status: Unutilized

Reasons: Within 2000 ft. of flammable or explosive material; Secured Area; Extensive deterioration

Bldg. 31

Los Alamos National Lab

Los Alamos NM 87545-

Landholding Agency: Energy

Property Number: 41199930003

Status: Unutilized

Reasons: Secured Area; Extensive deterioration

Bldg. 21, TA-2

Los Alamos National Lab

Los Alamos NM 87545-

Landholding Agency: Energy

Property Number: 41199940001

Status: Unutilized

Reason: Secured Area

Bldg. 38, TA-14

Los Alamos National Lab

Los Alamos NM 87545-

Landholding Agency: Energy

Property Number: 41199940004

Status: Unutilized

Reasons: Secured Area; Extensive deterioration

Bldg. 8, TA-15

Los Alamos National Lab

Los Alamos NM 87545-

Landholding Agency: Energy

Property Number: 41199940005

Status: Unutilized

Reasons: Secured Area; Extensive deterioration

Bldg. 9, TA-15

Los Alamos National Lab

Los Alamos NM 87545-

Landholding Agency: Energy

Property Number: 41199940006

Status: Unutilized

Reason: Secured Area

Bldg. 22, TA-15

Los Alamos National Lab

Los Alamos NM 87545-

Landholding Agency: Energy

Property Number: 41199940007

Status: Unutilized

Reason: Secured Area

Bldg. 141, TA-15

Los Alamos National Lab

Los Alamos NM 87545-

Landholding Agency: Energy

Property Number: 41199940008

Status: Unutilized

Reason: Secured Area

Bldg. 44, TA-15

Los Alamos National Lab

Los Alamos NM 87545-

Landholding Agency: Energy

Property Number: 41199940009

Status: Unutilized

Reason: Secured Area

Bldg. 2, TA-18

Los Alamos National Lab

Los Alamos NM 87545-

Landholding Agency: Energy

Property Number: 41199940010

Status: Unutilized

Reasons: Secured Area; Extensive deterioration

Bldg. 5, TA-18

Los Alamos National Lab

Los Alamos NM 87545-

Landholding Agency: Energy

Property Number: 41199940011

Status: Unutilized

Reasons: Secured Area; Extensive deterioration

Bldg. 186, TA-18

Los Alamos National Lab

Los Alamos NM 87545-

Landholding Agency: Energy

Property Number: 41199940012

Status: Unutilized

Reasons: Secured Area; Extensive deterioration

Bldg. 188, TA-18

Los Alamos National Lab

Los Alamos NM 87545-

Landholding Agency: Energy

Property Number: 41199940013

Status: Unutilized

Reasons: Secured Area; Extensive deterioration

Bldg. 44, TA-36

Los Alamos National Lab

Los Alamos NM 87545-

Landholding Agency: Energy

Property Number: 41199940015

Status: Unutilized

Reasons: Secured Area; Extensive deterioration

Bldg. 45, TA-36

Los Alamos National Lab

Los Alamos NM 87545-

Landholding Agency: Energy

Property Number: 41199940016

Status: Unutilized

Reasons: Secured Area; Extensive deterioration

Bldg. 19, TA-40

Los Alamos National Lab

Los Alamos NM 87545-

Landholding Agency: Energy

Property Number: 41199940017

Status: Unutilized

Reasons: Secured Area; Extensive deterioration

Bldg. 43, TA-40

Los Alamos National Lab

Los Alamos NM 87545-

Landholding Agency: Energy

Property Number: 41199940018

Status: Unutilized

Reasons: Secured Area; Extensive deterioration

Bldg. 258, TA-46

Los Alamos National Lab

Los Alamos NM 87545-

Landholding Agency: Energy

Property Number: 41199940019

Status: Unutilized

Reasons: Secured Area; Extensive deterioration

TA-3, Bldg. 208

Los Alamos National Lab

Los Alamos NM 87545-

Landholding Agency: Energy

Property Number: 41200010010

Status: Unutilized

Reasons: Secured Area; Extensive deterioration

TA-6, Bldg. 1

Los Alamos National Lab

Los Alamos NM 87545-

Landholding Agency: Energy

Property Number: 41200010011

Status: Unutilized

Reasons: Secured Area; Extensive deterioration

TA-6, Bldg. 2

Los Alamos National Lab

Los Alamos NM 87545-

Landholding Agency: Energy

Property Number: 41200010012

Status: Unutilized

Reasons: Secured Area; Extensive deterioration

TA-6, Bldg. 3

Los Alamos National Lab

Los Alamos NM 87545-

Landholding Agency: Energy

Property Number: 41200010013

Status: Unutilized

Reasons: Secured Area; Extensive deterioration

TA-6, Bldg. 5

Los Alamos National Lab

Los Alamos NM 87545-

Landholding Agency: Energy

Property Number: 41200010014

Status: Unutilized

Reasons: Secured Area; Extensive deterioration

TA-6, Bldg. 6

Los Alamos National Lab

Los Alamos NM 87545-

Landholding Agency: Energy

Property Number: 41200010015

Status: Unutilized

Reason: Secured Area

TA-6, Bldg. 7

Los Alamos National Lab

Los Alamos NM 87545-

Landholding Agency: Energy

Property Number: 41200010016

Status: Unutilized

Reason: Secured Area

TA-6, Bldg. 8

Los Alamos National Lab

Los Alamos NM 87545-

Landholding Agency: Energy

Property Number: 41200010017

Status: Unutilized

Reasons: Secured Area; Extensive deterioration

TA-6, Bldg. 9

Los Alamos National Lab

Los Alamos NM 87545-

Landholding Agency: Energy

Property Number: 41200010018

Status: Unutilized

Reason: Secured Area

TA-14, Bldg. 5

Los Alamos National Lab

Los Alamos NM 87545-

Landholding Agency: Energy

Property Number: 41200010019

Status: Unutilized

Reason: Secured Area

TA-21, Bldg. 150

Los Alamos National Lab

Los Alamos NM 87545-

Landholding Agency: Energy

Property Number: 41200010020

Status: Unutilized

Reason: Secured Area

Bldg. 149, TA-21

Los Alamos National Lab

Los Alamos NM 87545-

Landholding Agency: Energy

Property Number: 41200010024

Status: Unutilized

Reason: Secured Area

Bldg. 312, TA-21

Los Alamos National Lab

Los Alamos NM 87545-

Landholding Agency: Energy

Property Number: 41200010025

Status: Unutilized

Reason: Secured Area

Bldg. 313, TA-21

Los Alamos National Lab

Los Alamos NM 87545-

Landholding Agency: Energy

Property Number: 41200010026

Status: Unutilized

Reason: Secured Area

Bldg. 314, TA-21

Los Alamos National Lab

Los Alamos NM 87545-

Landholding Agency: Energy

Property Number: 41200010027

Status: Unutilized

Reason: Secured Area

Bldg. 315, TA-21

Los Alamos National Lab

Los Alamos NM 87545-

Landholding Agency: Energy

Property Number: 41200010028

Status: Unutilized

Reason: Secured Area

Bldg. 1, TA-8

Los Alamos National Lab

Los Alamos NM 87545-

Landholding Agency: Energy

Property Number: 41200010029

Status: Unutilized

Reason: Secured Area

Bldg. 2, TA-8

Los Alamos National Lab

Los Alamos NM 87545-

Landholding Agency: Energy

Property Number: 41200010030

Status: Unutilized

Reasons: Secured Area; Extensive deterioration

Bldg. 3, TA-8

Los Alamos National Lab

Los Alamos NM 87545-

Landholding Agency: Energy

Property Number: 41200020001

Status: Unutilized

Reasons: Secured Area; Extensive deterioration

Bldg. 51, TA-9

Los Alamos National Lab

Los Alamos NM 87545-

Landholding Agency: Energy

Property Number: 41200020002

Status: Unutilized

Reason: Secured Area

Bldg. 30, TA-14

Los Alamos National Lab

Los Alamos NM 87545-

Landholding Agency: Energy

Property Number: 41200020003

Status: Unutilized

Reason: Secured Area

Bldg. 16, TA-3

Los Alamos National Lab

Los Alamos NM 87545-

Landholding Agency: Energy

Property Number: 41200020009

Status: Unutilized

Reason: Secured Area

Bldg. 339, TA-16

Los Alamos National Lab

Los Alamos NM 87545-

Landholding Agency: Energy

Property Number: 41200020010

Status: Unutilized

Reason: Secured Area

Bldg. 340, TA-16

Los Alamos National Lab

Los Alamos NM 87545-

Landholding Agency: Energy

Property Number: 41200020011

Status: Unutilized

Reason: Secured Area

Bldg. 341, TA-16

Los Alamos National Lab

Los Alamos NM 87545-

Landholding Agency: Energy

Property Number: 41200020012

Status: Unutilized

Reason: Secured Area

Bldg. 342, TA-16

Los Alamos National Lab

Los Alamos NM 87545-

Landholding Agency: Energy

Property Number: 41200020013

Status: Unutilized

Reason: Secured Area

Bldg. 343, TA-16

Los Alamos National Lab

Los Alamos NM 87545-

Landholding Agency: Energy

Property Number: 41200020014

Status: Unutilized

Reason: Secured Area

Bldg. 345, TA-16

Los Alamos National Lab

Los Alamos NM 87545-

Landholding Agency: Energy

Property Number: 41200020015

Status: Unutilized

Reason: Secured Area

Bldg. 48, TA-55

Los Alamos National Lab

Los Alamos NM 87545-

Landholding Agency: Energy

Property Number: 41200020017

Status: Unutilized

Reason: Secured Area

Bldg. 125, TA-55

Los Alamos National Lab

Los Alamos NM 87545-

Landholding Agency: Energy

Property Number: 41200020018

Status: Unutilized

Reason: Secured Area

Bldg. 162, TA-55

Los Alamos National Lab

Los Alamos NM 87545-

Landholding Agency: Energy

Property Number: 41200020019

Status: Unutilized

Reason: Secured Area

Bldg. 22, TA-33

Los Alamos National Lab

Los Alamos NM 87545-

Landholding Agency: Energy

Property Number: 41200020022

Status: Unutilized

Reasons: Secured Area; Extensive deterioration

Bldg. 23, TA-49

Los Alamos National Lab

Los Alamos NM 87545-

Landholding Agency: Energy

Property Number: 41200020023

Status: Unutilized

Reason: Secured Area

Bldg. 37, TA-53

Los Alamos National Lab

Los Alamos NM 87545-

Landholding Agency: Energy

Property Number: 41200020024

Status: Unutilized

Reason: Secured Area

Bldg. 121, TA-49

Los Alamos National Lab

Los Alamos NM 87545-

Landholding Agency: Energy

Property Number: 41200020025

Status: Unutilized

Reason: Secured Area

5 Bldgs.

Kirtland AFB

Sandia Natl Lab

Albuquerque Co: Bernalillo NM 87185-

Location: 9927, 9970, 6730, 6731, 6555

Landholding Agency: Energy

Property Number: 41200210014

Status: Excess

Reason: Extensive deterioration

6 Bldgs.

Kirtland AFB

Sandia Natl Lab

Albuquerque Co: Bernalillo NM 87185-

Location: 6725, 841, 884, 892, 893, 9800

Landholding Agency: Energy

Property Number: 41200210015

Status: Excess

Reason: Extensive deterioration

TA-53, Bldg. 61

Los Alamos National Lab

Los Alamos NM 87545-

Landholding Agency: Energy

Property Number: 41200220023

Status: Unutilized

Reason: Extensive deterioration

TA-53, Bldg. 63

Los Alamos National Lab

Los Alamos NM 87545-

Landholding Agency: Energy

Property Number: 41200220024

Status: Unutilized

Reason: Extensive deterioration

TA-53, Bldg. 65

Los Alamos National Lab

Los Alamos NM 87545-

Landholding Agency: Energy

Property Number: 41200220025

Status: Unutilized

Reason: Extensive deterioration

Bldg. B117

Kirtland Operations

Albuquerque Co: Bernalillo NM 87117-

Landholding Agency: Energy

Property Number: 41200220032

Status: Excess

Reason: Extensive deterioration

Bldg. B118

Kirtland Operations

Albuquerque Co: Bernalillo NM 87117-

Landholding Agency: Energy

Property Number: 41200220033

Status: Excess

Reason: Extensive deterioration

Bldg. B119

Kirtland Operations

Albuquerque Co: Bernalillo NM 87117-

Landholding Agency: Energy

Property Number: 41200220034

Status: Excess

Reason: Extensive deterioration

Bldg. 6721

Kirtland AFB

Albuquerque Co: Bernalillo NM 87185-

Landholding Agency: Energy

Property Number: 41200220042

Status: Unutilized

Reason: Extensive deterioration

6 Bldgs.

Kirtland Air Force Base

#852, 874, 9939A, 6536, 6636, 833A

Albuquerque NM 87185-

Landholding Agency: Energy

Property Number: 41200230001

Status: Excess

Reason: Secured Area

Bldg. 805

Kirtland Air Force Base

Albuquerque Co: Bernalillo NM 87185-

Landholding Agency: Energy

Property Number: 41200240001

Status: Unutilized

Reason: Secured Area

Bldg. 8898

Kirtland Air Force Base

Albuquerque Co: Bernalillo NM 87185-

Landholding Agency: Energy

Property Number: 41200240002

Status: Unutilized

Reason: Secured Area

8 Bldgs., TA-16

Los Alamos National Lab

195, 220-226

Los Alamos NM 87545-

Landholding Agency: Energy

Property Number: 41200240003

Status: Unutilized

Reason: Secured Area

Bldg. 2, TA-11

Los Alamos National Lab

Los Alamos NM 87545-

Landholding Agency: Energy

Property Number: 41200240004

Status: Unutilized

Reason: Secured Area

Bldg. 4, TA-41

Los Alamos National Lab

Los Alamos NM 87545-

Landholding Agency: Energy

Property Number: 41200240005

Status: Unutilized

Reason: Secured Area

Bldg. 16, TA-41

Los Alamos National Lab

Los Alamos NM 87545-

Landholding Agency: Energy

Property Number: 41200240006

Status: Unutilized

Reason: Secured Area

Bldg. 30, TA-41

Los Alamos National Lab

Los Alamos NM 87545-

Landholding Agency: Energy

Property Number: 41200240007

Status: Unutilized

Reason: Secured Area

Bldg. 53, TA-41

Los Alamos National Lab

Los Alamos NM 87545-

Landholding Agency: Energy

Property Number: 41200240008

Status: Unutilized

Reason: Secured Area

Bldg. 2, TA-33

Los Alamos National Lab

Los Alamos NM 87545-

Landholding Agency: Energy

Property Number: 41200310001

Status: Unutilized

Reasons:

Secured Area; Extensive deterioration

Bldgs. 228, 286, TA-21

Los Alamos National Lab

Los Alamos NM 87545-

Landholding Agency: Energy

Property Number: 41200310002

Status: Unutilized

Reason: Secured Area

Bldg. 116, TA-21

Los Alamos National Lab

Los Alamos NM 87545-

Landholding Agency: Energy

Property Number: 41200310003

Status: Unutilized

Reason: Secured Area

Bldgs. 1, 2, 3, 4, 5, TA-28

Los Alamos National Lab

Los Alamos NM 87545-

Landholding Agency: Energy

Property Number: 41200310004

Status: Unutilized

Reason: Secured Area

Bldgs. 447, 1483

Los Alamos Natl Laboratory

Los Alamos NM

Landholding Agency: Energy

Property Number: 41200410002

Status: Excess

Reasons: Secured Area; Extensive deterioration

Bldgs. 870C & 9830

Kirtland AFB

Albuquerque Co: Bernalillo NM 87185-

Landholding Agency: Energy

Property Number: 41200410037

Status: Excess

Reason: Secured Area

Bldg. 99650

Sandia National Laboratory

Albuquerque Co: Bernalillo NM 87185-

Landholding Agency: Energy

Property Number: 41200510004

Status: Unutilized

Reason: Secured Area

Tract 102-73

El Malpais National Monument

Grants Co: Cibola NM 87020-

Landholding Agency: Interior

Property Number: 61200420002

Status: Unutilized

Reason: Extensive deterioration

Bldgs. 001A, 001B, 001C

Pigeon's Ranch

Glorieta Co: Santa Fe NM 87535-

Landholding Agency: Interior

Property Number: 61200430006

Status: Unutilized

Reason: Extensive deterioration

Bldgs. 002A, 002B, 002C

Pigeon's Ranch

Glorieta Co: Santa Fe NM 87535-

Landholding Agency: Interior

Property Number: 61200430007

Status: Unutilized

Reason: Extensive deterioration

Bldgs. 002D, 002F

Pigeon's Ranch

Glorieta Co: Santa Fe NM 87535-

Landholding Agency: Interior

Property Number: 61200430008

Status: Unutilized

Reason: Extensive deterioration

Bldg. 003A

Pigeon's Ranch

Glorieta Co: Santa Fe NM 87535-

Landholding Agency: Interior

Property Number: 61200430009

Status: Unutilized

Reason: Extensive deterioration

Blgs. 004A, 004B

Pigeon's Ranch

Glorieta Co: Santa Fe NM 87535-

Landholding Agency: Interior

Property Number: 61200430010

Status: Unutilized

Reason: Extensive deterioration

Bldgs. 006A, 006B

Pigeon's Ranch

Glorieta Co: Santa Fe NM 87535-

Landholding Agency: Interior

Property Number: 61200430011

Status: Unutilized

Reason: Extensive deterioration

New York

Bldg. 0086

Brookhaven National Laboratory

Upton Co: Suffolk NY 11973-

Landholding Agency: Energy

Property Number: 41200520010

Status: Unutilized

Reason: Extensive deterioration

Bldg. 0527

Brookhaven National Laboratory

Upton Co: Suffolk NY 11973-

Landholding Agency: Energy

Property Number: 41200520011

Status: Unutilized

Reason: Extensive deterioration

Bldg. 0650A

Brookhaven National Laboratory

Upton Co: Suffolk NY 11973-

Landholding Agency: Energy

Property Number: 41200520012

Status: Unutilized

Reason: Extensive deterioration

Bldgs. 0933B, 0934

Brookhaven National Laboratory

Upton Co: Suffolk NY 11973-

Landholding Agency: Energy

Property Number: 41200520013

Status: Unutilized

Reason: Extensive deterioration

North Carolina

Bldg. 82

Marine Corps Air Station

Cherry Point Co: Craven NC 28533-

Landholding Agency: Navy

Property Number: 77200510009

Status: Underutilized

Reason: Secured Area

Bldg. 4314

Marine Corps Air Station

Cherry Point Co: Craven NC 28533-

Landholding Agency: Navy

Property Number: 77200510010

Status: Underutilized

Reason: Secured Area

Bldg. 124

Marine Corps Air Station

Cherry Point Co: Craven NC 28533-

Landholding Agency: Navy

Property Number: 77200510023

Status: Underutilized

Reason: Secured Area

Ohio

Bldg. 77

Fernald Environmental Management Project

Fernald Co: Hamilton OH 45013-

Landholding Agency: Energy

Property Number: 41199840003

Status: Excess

Reasons: Within 2000 ft. of flammable or explosive material; Secured Area

Bldg. 82A

Fernald Environmental Mgmt Project

Fernald Co: Hamilton OH 45013-

Landholding Agency: Energy

Property Number: 41199910018

Status: Excess

Reasons: Within 2000 ft. of flammable or explosive material; Secured Area

Bldg. 16

RMI Environmental Services

Ashtabula OH 44004-

Landholding Agency: Energy

Property Number: 41199930016

Status: Unutilized

Reason: Secured Area

Bldg. 22B

Fernald Env. Mgmt. Proj.

Hamilton OH 45013-9402

Landholding Agency: Energy

Property Number: 41200020026

Status: Unutilized

Reasons: Within 2000 ft. of flammable or explosive material; Secured Area

Bldg. 53A

Fernald Env. Mgmt. Project

Fernald Co: Hamilton OH 45013-9402

Landholding Agency: Energy

Property Number: 41200120009

Status: Excess

Reason: Secured Area

Bldg. 8G

Fernald Environmental Mgmt Project

Hamilton OH 45013-

Landholding Agency: Energy

Property Number: 41200210003

Status: Excess

Reason: Secured Area

Bldg. 8H

Fernald Environmental Mgmt Project

Hamilton OH 45013-

Landholding Agency: Energy

Property Number: 41200210004

Status: Excess

Reason: Secured Area

Bldg. 94A

Fernald Environmental Mgmt Project

Hamilton OH 45013-

Landholding Agency: Energy

Property Number: 41200210005

Status: Excess

Reason: Secured Area

Bldg. 11

Fernald Env. Mgmt. Proj.

Hamilton OH 45013-

Landholding Agency: Energy

Property Number: 41200220026

Status: Excess

Reason: Secured Area

Bldg. 14A

Fernald Env. Mgmt. Proj

Hamilton OH 45013-

Landholding Agency: Energy

Property Number: 41200220027

Status: Excess

Reason: Secured Area

Bldg. 15C

Fernald Env. Mgmt. Proj.

Hamilton OH 45013-

Landholding Agency: Energy

Property Number: 41200220029

Status: Excess

Reason: Secured Area

Bldg. 20K

Fernald Env. Mgmt. Proj.

Hamilton OH 45013-

Landholding Agency: Energy

Property Number: 41200220030

Status: Excess

Reason: Secured Area

Bldg. 53B

Fernald Env. Mgmt. Proj.

Hamilton OH 45013-

Landholding Agency: Energy

Property Number: 41200220031

Status: Excess

Reason: Secured Area

Modular Ofc. Bldg.

RMI

Ashtabula OH 44004-

Landholding Agency: Energy

Property Number: 41200310008

Status: Excess

Reason: Contamination

Modular Lab Bldg.

RMI

Ashtabula OH 44004-

Landholding Agency: Energy

Property Number: 41200310009

Status: Excess

Reason: Contamination

Soil Storage Bldg.

RMI

Ashtabula OH 44004-

Landholding Agency: Energy

Property Number: 41200310010

Status: Excess

Reason: Contamination

Soil Washing Bldg.

RMI

Ashtabula OH 44004-

Landholding Agency: Energy

Property Number: 41200310011

Status: Excess

Reason: Contamination

Bldg. 16B

Fernald Env. Mgmt. Proj.

Hamilton Co: Butler OH 45013-

Landholding Agency: Energy

Property Number: 41200310012

Status: Excess

Reasons: Contamination; Secured Area

Bldg. 24C

Fernald Env. Mgmt. Proj.

Hamilton Co: Butler OH 45013-

Landholding Agency: Energy

Property Number: 41200310013

Status: Excess

Reasons: Contamination; Secured Area

Bldg. 50

Fernald Env. Mgmt. Proj.

Hamilton Co: Butler OH 45013-

Landholding Agency: Energy

Property Number: 41200310015

Status: Excess

Reasons: Contamination; Secured Area

Bldg. 52A

Fernald Env. Mgmt. Proj.

Hamilton Co: Butler OH 45013-

Landholding Agency: Energy

Property Number: 41200310016

Status: Excess

Reasons: Contamination; Secured Area

Bldg. 52B

Fernald Env. Mgmt. Proj.

Hamilton Co: Butler OH 45013-

Landholding Agency: Energy

Property Number: 41200310017

Status: Excess

Reasons: Contamination; Secured Area

Oregon

Bldg. 0012-0410-00

Homedale Road

Klamath Falls Co: Klamath OR 97603-

Landholding Agency: Interior

Property Number: 61200410002

Status: Unutilized

Reason: Extensive deterioration

Bldg. 0012-0411-00

Homedale Road

Klamath Falls Co: Klamath OR 97603-

Landholding Agency: Interior

Property Number: 61200410003

Status: Unutilized

Reason: Extensive deterioration

Bldg. 0012-0412-00

Homedale Road

Klamath Falls Co: Klamath OR 97603-

Landholding Agency: Interior

Property Number: 61200410004

Status: Unutilized

Reason: Extensive deterioration

Pennsylvania

Z-Bldg.

Bettis Atomic Power Lab

West Mifflin Co: Allegheny PA 15122-0109

Landholding Agency: Energy

Property Number: 41199720002

Status: Excess

Reason: Extensive deterioration

Bldg. 904

Naval Support Activity

Mechanicsburg Co: Cumberland PA 17055-

Landholding Agency: Navy

Property Number: 77200430066

Status: Excess

Reason: Extensive deterioration

Bldg. 952

Naval Support Activity

Mechanicsburg Co: Cumberland PA 17055-

Landholding Agency: Navy

Property Number: 77200430067

Status: Excess

Reason: Extensive deterioration

Bldg. 953

Naval Support Activity

Mechanicsburg Co: Cumberland PA 17055-

Landholding Agency: Navy

Property Number: 77200430068

Status: Excess

Reason: Extensive deterioration

South Carolina

Bldg. 701-6G

Jackson Barricade

Jackson SC

Landholding Agency: Energy

Property Number: 41200420010

Status: Unutilized

Reason: Secured Area

Bldg. 211-000F

Nuclear Materials Processing Facility

Aiken SC 29802-

Landholding Agency: Energy

Property Number: 41200420011

Status: Excess

Reason: Secured Area

Bldg. 211-002F

Nuclear Materials Processing Facility

Aiken SC 29802-

Landholding Agency: Energy

Property Number: 41200420013

Status: Excess

Reason: Secured Area

Bldg. 221-001F

Nuclear Materials Processing Facility

Aiken SC 29802-

Landholding Agency: Energy

Property Number: 41200420015

Status: Excess

Reason: Secured Area

Bldgs. 183-1R, 183-2R

Savannah River Operations

Aiken SC 29802-

Landholding Agency: Energy

Property Number: 41200420025

Status: Unutilized

Reason: Secured Area

Bldg. 186-C

Savannah River Operations

Aiken SC 29802-

Landholding Agency: Energy

Property Number: 41200420026

Status: Unutilized

Reason: Secured Area

Bldgs. 186-K, 186-1K

Savannah River Operations

Aiken SC 29802-

Landholding Agency: Energy

Property Number: 41200420027

Status: Unutilized

Reason: Secured Area

Bldgs. 186-P, 186-1P

Savannah River Operations

Aiken SC 29802-

Landholding Agency: Energy

Property Number: 41200420028

Status: Unutilized

Reason: Secured Area

Bldg. 190-C

Savannah River Operations

Aiken SC 29802-

Landholding Agency: Energy

Property Number: 41200420029

Status: Unutilized

Reason: Secured Area

Bldg. 190-K

Savannah River Operations

Aiken SC 29802-

Landholding Agency: Energy

Property Number: 41200420030

Status: Unutilized

Reason: Secured Area

Bldg. 190-P

Savannah River Operations

Aiken SC 29802-

Landholding Agency: Energy

Property Number: 41200420031

Status: Unutilized

Reason: Secured Area

Bldg. 704-002N

Savannah River Operations

Aiken Co: SC 29802-

Landholding Agency: Energy

Property Number: 41200430001

Status: Excess

Reason: Secured Area

Bldg. 710-015N

Savannah River Operations

Aiken Co: SC 29802-

Landholding Agency: Energy

Property Number: 41200430002

Status: Excess

Reason: Secured Area

Bldg. 713-000N

Savannah River Operations

Aiken Co: SC 29802-

Landholding Agency: Energy

Property Number: 41200430003

Status: Excess

Reason: Secured Area

Bldg. 717-000C

Savannah River Operations

Aiken Co: SC 29802-

Landholding Agency: Energy

Property Number: 41200430004

Status: Excess

Reason: Secured Area

Bldg. 717-011N

Savannah River Operations

Aiken Co: SC 29802-

Landholding Agency: Energy

Property Number: 41200430005

Status: Excess

Reason: Secured Area

Bldgs. 80-9G, 10G

Savannah River Operations

Aiken Co: SC 29802-

Landholding Agency: Energy

Property Number: 41200430006

Status: Excess

Reason: Secured Area

Bldgs. 105-P, 105-R

Savannah River Operations

Aiken Co: SC 29802-

Landholding Agency: Energy

Property Number: 41200430007

Status: Excess

Reason: Secured Area

Bldg. 183-002P

Savannah River Operations

Aiken Co: SC 29802-

Landholding Agency: Energy

Property Number: 41200430008

Status: Excess

Reason: Secured Area

Bldg. 183-003L

Savannah River Operations

Aiken Co: SC 29802-

Landholding Agency: Energy

Property Number: 41200430009

Status: Excess

Reason: Secured Area

Bldgs. 183-004K, 004L, 004P

Savannah River Operations

Aiken Co: SC 29802-

Landholding Agency: Energy

Property Number: 41200430010

Status: Excess

Reason: Secured Area

6 Bldgs.

Savannah River Operations

Aiken Co SC 29802-

Location: 185-000K, 607-020K, 110-000L, 107-000P, 607-024P, 109-000R

Landholding Agency: Energy

Property Number: 41200430011

Status: Excess

Reason: Secured Area

Bldg. 191-000L

Savannah River Operations

Aiken Co: SC 29802-

Landholding Agency: Energy

Property Number: 41200430012

Status: Excess

Reason: Secured Area

Bldg. 221-016F

Savannah River Operations

Aiken Co: SC 29802-

Landholding Agency: Energy

Property Number: 41200430014

Status: Excess

Reason: Secured Area

Bldgs. 221-034F, 035F

Savannah River Operations

Aiken Co: SC 29802-

Landholding Agency: Energy

Property Number: 41200430015

Status: Excess

Reason: Secured Area

Bldgs. 221-053F, 054F

Savannah River Operations

Aiken Co: SC 29802-

Landholding Agency: Energy

Property Number: 41200430016

Status: Excess

Reason: Secured Area

Bldgs. 252-003F, 005F

Savannah River Operations

Aiken Co: SC 29802-

Landholding Agency: Energy

Property Number: 41200430017

Status: Excess

Reason: Secured Area

Bldg. 607-022P

Savannah River Operations

Aiken Co: SC 29802-

Landholding Agency: Energy

Property Number: 41200430018

Status: Excess

Reason: Secured Area

Bldg. 647-000G

Savannah River Operations

Aiken Co: SC 29802-

Landholding Agency: Energy

Property Number: 41200430020

Status: Excess

Reason: Secured Area

Bldg. 704-000P

Savannah River Operations

Aiken Co: SC 29802-

Landholding Agency: Energy

Property Number: 41200430022

Status: Excess

Reason: Secured Area

Bldgs. 723-001L, 002L, 003L

Savannah River Operations

Aiken Co: SC 29802-

Landholding Agency: Energy

Property Number: 41200430025

Status: Excess

Reason: Secured Area

Bldg. 763-000A

Savannah River Operations

Aiken Co: SC 29802-

Landholding Agency: Energy

Property Number: 41200430027

Status: Excess

Reason: Secured Area

Bldg. 221-013F

Savannah River Operations

Aiken Co: SC 29802-

Landholding Agency: Energy

Property Number: 41200430028

Status: Excess

Reason: Secured Area

Bldg. 278-002N

Savannah River Operations

Aiken Co: SC 29802-

Landholding Agency: Energy

Property Number: 41200430029

Status: Excess

Reason: Secured Area

Bldg. 315-M

Savannah River Operations

Aiken Co: SC 29802-

Landholding Agency: Energy

Property Number: 41200430030

Status: Excess

Reason: Secured Area

Bldg. 607-001A

Savannah River Operations

Aiken Co: SC 29802-

Landholding Agency: Energy

Property Number: 41200430031

Status: Excess

Reason: Secured Area

Bldg. 607-009C

Savannah River Operations

Aiken Co: SC 29802-

Landholding Agency: Energy

Property Number: 41200430032

Status: Excess

Reason: Secured Area

Bldg. 607-038N

Savannah River Operations

Aiken Co: SC 29802-

Landholding Agency: Energy

Property Number: 41200430034

Status: Excess

Reason: Secured Area

Bldg. 614-002K

Savannah River Operations

Aiken Co: SC 29802-

Landholding Agency: Energy

Property Number: 41200430036

Status: Excess

Reason: Secured Area

Bldg. 614-002L

Savannah River Operations

Aiken Co: SC 29802-

Landholding Agency: Energy

Property Number: 41200430037

Status: Excess

Reason: Secured Area

Bldg. 701-001F

Savannah River Operations

Aiken Co: SC 29802-

Landholding Agency: Energy

Property Number: 41200430038

Status: Excess

Reason: Secured Area

Bldg. 701-002C

Savannah River Operations

Aiken Co: SC 29802-

Landholding Agency: Energy

Property Number: 41200430039

Status: Excess

Reason: Secured Area

Bldg. 716-002A

Savannah River Operations

Aiken Co: SC 29802-

Landholding Agency: Energy

Property Number: 41200430040

Status: Excess

Reason: Secured Area

Bldg. 901-001K

Savannah River Operations

Aiken Co: SC 29802-

Landholding Agency: Energy

Property Number: 41200430041

Status: Excess

Reason: Secured Area

Bldgs. 221-21F, 22F

Savannah River Operations

Aiken Co: SC 29802-

Landholding Agency: Energy

Property Number: 41200430042

Status: Excess

Reason: Secured Area

Bldg. 221-033F

Savannah River Operations

Aiken Co: SC 29802-

Landholding Agency: Energy

Property Number: 41200430043

Status: Excess

Reason: Secured Area

Bldg. 254-007F

Savannah River Operations

Aiken Co: SC 29802-

Landholding Agency: Energy

Property Number: 41200430044

Status: Excess

Reason: Secured Area

Bldg. 281-001F

Savannah River Operations

Aiken Co: SC 29802-

Landholding Agency: Energy

Property Number: 41200430045

Status: Excess

Reason: Secured Area

Bldg. 281-004F

Savannah River Operations

Aiken Co: SC 29802-

Landholding Agency: Energy

Property Number: 41200430046

Status: Excess

Reason: Secured Area

Bldg. 281-006F

Savannah River Operations

Aiken Co: SC 29802-

Landholding Agency: Energy

Property Number: 41200430047

Status: Excess

Reason: Secured Area

Bldg. 305-000A

Savannah River Operations

Aiken Co: SC 29802-

Landholding Agency: Energy

Property Number: 41200430048

Status: Excess

Reason: Secured Area

Bldg. 701-012A

Savannah River Operations

Aiken Co: SC 29802-

Landholding Agency: Energy

Property Number: 41200430049

Status: Excess

Reason: Secured Area

Bldg. 703-045A

Savannah River Operations

Aiken Co: SC 29802-

Landholding Agency: Energy

Property Number: 41200430050

Status: Excess

Reason: Secured Area

Bldg. 703-071A

Savannah River Operations

Aiken Co: SC 29802-

Landholding Agency: Energy

Property Number: 41200430051

Status: Excess

Reason: Secured Area

Bldg. 709-000A

Savannah River Operations

Aiken Co: SC 29802-

Landholding Agency: Energy

Property Number: 41200430052

Status: Excess

Reason: Secured Area

Bldg. 716-A

Savannah River Operations

Aiken Co: SC 29802-

Landholding Agency: Energy

Property Number: 41200430055

Status: Excess

Reason: Secured Area

Bldg. 719-000A

Savannah River Operations

Aiken Co: SC 29802-

Landholding Agency: Energy

Property Number: 41200430056

Status: Excess

Reason: Secured Area

Bldg. 720-000A

Savannah River Operations

Aiken Co: SC 29802-

Landholding Agency: Energy

Property Number: 41200430057

Status: Excess

Reason: Secured Area

Bldg. 754-008A

Savannah River Operations

Aiken Co: SC 29802-

Landholding Agency: Energy

Property Number: 41200430058

Status: Excess

Reason: Secured Area

Bldg. 763-000A

Savannah River Operations

Aiken Co: SC 29802-

Landholding Agency: Energy

Property Number: 41200430059

Status: Excess

Reason: Secured Area

Bldg. 777-010A

Savannah River Operations

Aiken Co: SC 29802-

Landholding Agency: Energy

Property Number: 41200430061

Status: Excess

Reason: Secured Area

Bldg. 186-R

Savannah River Site

Aiken Co: SC

Landholding Agency: Energy

Property Number: 41200430063

Status: Unutilized

Reason: Secured Area

Bldg. 190-R

Savannah River Site

Aiken Co: SC

Landholding Agency: Energy

Property Number: 41200430064

Status: Unutilized

Reason: Secured Area

Bldg. 230-H

Savannah River Site

Aiken Co: SC

Landholding Agency: Energy

Property Number: 41200430065

Status: Unutilized

Reason: Secured Area

4 Bldgs.

Savannah River Site

#281-2F, 281-5F, 285-F, 285-5F

Aiken Co: SC

Landholding Agency: Energy

Property Number: 41200430066

Status: Unutilized

Reason: Secured Area

Bldgs. 711-3N, 717-12N

Savannah River Site

Aiken Co: SC

Landholding Agency: Energy

Property Number: 41200430067

Status: Unutilized

Reason: Secured Area

Bldgs. 186L, 190L

Savannah River Site

Aiken Co: SC 29802-

Landholding Agency: Energy

Property Number: 41200430069

Status: Unutilized

Reason: Secured Area

Bldg. 701-000M

Savannah River Site

Aiken Co: SC 29802-

Landholding Agency: Energy

Property Number: 41200430084

Status: Unutilized

Reason: Secured Area

Bldg. 701-002A

Savannah River Site

Aiken Co: SC 29802-

Landholding Agency: Energy

Property Number: 41200430085

Status: Unutilized

Reason: Secured Area

Bldg. 701-003A

Savannah River Site

Aiken Co: SC 29802-

Landholding Agency: Energy

Property Number: 41200430086

Status: Unutilized

Reason: Secured Area

Bldg. 122-R

Savannah River Site

Aiken Co: SC 29802-

Landholding Agency: Energy

Property Number: 41200440009

Status: Unutilized

Reason: Secured Area

Bldg. 151-2R

Savannah River Site

Aiken Co: SC 29802-

Landholding Agency: Energy

Property Number: 41200440010

Status: Unutilized

Reason: Secured Area

Bldg. 608-000P

Savannah River Site

Aiken Co: SC 29802-

Landholding Agency: Energy

Property Number: 41200440031

Status: Excess

Reason: Secured Area

Bldg. 690-000N

Savannah River Site

Aiken Co: SC 29802-

Landholding Agency: Energy

Property Number: 41200440032

Status: Underutilized

Reason: Secured Area

Bldg. 763-106N

Savannah River Site

Aiken Co: SC 29802-

Landholding Agency: Energy

Property Number: 41200440033

Status: Underutilized

Reason: Secured Area

Bldgs. 1000 thru 1021

Naval Weapons Station

Goose Creek Co: Berkeley SC 29445-

Landholding Agency: Navy

Property Number: 77200440018

Status: Unutilized

Reason: Secured Area

Tennessee

Bldg. 3004

Oak Ridge National Lab

Oak Ridge Co: Roane TN 37831-

Landholding Agency: Energy

Property Number: 41199710002

Status: Unutilized

Reasons: Secured Area; Extensive deterioration

Bldgs. 9714-3, 9714-4, 9983-AY

Y-12 Pistol Range

Oak Ridge Co: Anderson TN 37831-

Landholding Agency: Energy

Property Number: 41199720004

Status: Unutilized

Reason: Secured Area

5 Bldgs.

K-724, K-725, K-1031, K-1131, K-1410

East Tennessee Technology Park

Oak Ridge Co: Roane TN 37831-

Landholding Agency: Energy

Property Number: 41199730001

Status: Unutilized

Reason: Extensive deterioration

Bldg. 9418-1

Y-12 Plant

Oak Ridge Co: Anderson TN 37831-

Landholding Agency: Energy

Property Number: 41199810026

Status: Unutilized

Reasons: Secured Area; Extensive deterioration

Bldg. 9825

Y-12 Plant

Oak Ridge Co: Anderson TN 37831-

Landholding Agency: Energy

Property Number: 41199810027

Status: Unutilized

Reason: Secured Area

17 Bldgs.

Oak Ridge Tech Park

Oak Ridge Co: Roane TN 37831-

Location: K-801, A- D, H, K-891, K-892, K1025A- E, K-1064B- E, H, K, L, K1206-E

Landholding Agency: Energy

Property Number: 41200310007

Status: Unutilized

Reasons: Secured Area; Extensive deterioration

Bldg. SC-3

ORISE

Oak Ridge Co: Anderson TN 37831-

Landholding Agency: Energy

Property Number: 41200340001

Status: Unutilized

Reasons: Secured Area; Extensive deterioration

Quarters 240

Natchez Trace Pkwy

Hohenwald Co: Lewis TN 38462-

Landholding Agency: Interior

Property Number: 61200520006

Status: Excess

Reason: Extensive deterioration

Tract 01-167

National Military Park

Shiloh Co: Hardin TN 38376-

Landholding Agency: Interior

Property Number: 61200520007

Status: Excess

Reason: Extensive deterioration

Tract 01-168

National Military Park

Shiloh Co: Hardin TN 38376-

Landholding Agency: Interior

Property Number: 61200520008

Status: Excess

Reason: Extensive deterioration

25 Bldgs.

Naval Support Activity

Millington Co: TN 38054-

Location: 2032, 2037, 2041, 2043, 2056, 2072, 2085-2086, 2089-2090, 2099, 2103, 2105-2106, 501, 596, 429, 431-433, 1045, 570-573

Landholding Agency: Navy

Property Number: 77200430024

Status: Excess

Reason: Secured Area

17 Buildings

Naval Support Activity

Mid-South

Millington Co: TN 38054-

Location: 892-893, 1704, 1487, 2020, 2035, 2044-2045, 2071, 2074, 2079-2082, 2094, 2096, 2063

Landholding Agency: Navy

Property Number: 77200520012

Status: Excess

Reason: Secured Area

Texas

Zone 5, Bldg. FS-18

Pantex Plant

Amarillo Co: Carson TX 79120-

Landholding Agency: Energy

Property Number: 41200220044

Status: Unutilized

Reasons: Within 2000 ft. of flammable or explosive material; Secured Area

Zone 12, Bldg. 12-20

Pantex Plant

Amarillo Co: Carson TX 79120-

Landholding Agency: Energy

Property Number: 41200220053

Status: Unutilized

Reasons: Within 2000 ft. of flammable or explosive material; Secured Area

Bldgs. 12-017E, 12-019E

Pantex Plant

Amarillo Co: Carson TX 79120-

Landholding Agency: Energy

Property Number: 41200320010

Status: Unutilized

Reasons: Within 2000 ft. of flammable or explosive material; Secured Area

5 Bldgs.

Pantex Plant

#10-002, 11-009, 12-013, 12-078, 12- R-078

Amarillo Co: Carson TX 79120-

Landholding Agency: Energy

Property Number: 41200410003

Status: Unutilized

Reasons: Within 2000 ft. of flammable or explosive material; Secured Area

Bldg. 15-016

Pantex Plant

Amarillo Co: Carson TX 79120-

Landholding Agency: Energy

Property Number: 41200420017

Status: Unutilized

Reason: Secured Area

Bldg. 4-052P

Pantex Plant

Amarillo Co: Carson TX 79120-

Landholding Agency: Energy

Property Number: 41200420018

Status: Unutilized

Reason: Secured Area

Bldg. 25

Naval Air Station

Corpus Christi Co: Nueces TX 78419-

Landholding Agency: Navy

Property Number: 77200510011

Status: Excess

Reason: Secured Area

Bldg. 1261

Naval Air Station

Corpus Christi Co: Nueces TX 78419-

Landholding Agency: Navy

Property Number: 77200510012

Status: Excess

Reason: Secured Area

Bldg. 1739

Naval Air Station

Corpus Christi Co: Nueces TX 78419-

Landholding Agency: Navy

Property Number: 77200510013

Status: Excess

Reason: Secured Area

Bldg. 1826

Naval Air Station

Corpus Christi Co: Nueces TX 78419-

Landholding Agency: Navy

Property Number: 77200510014

Status: Excess

Reason: Secured Area

Virginia

E. Beale House

Tract 01-132

Appomattox Co: VA 24522-

Landholding Agency: Interior

Property Number: 61200440003

Status: Excess

Reason: Extensive deterioration

Ferguson House

Tract 01-124

Appomattox Co: VA 24522-

Landholding Agency: Interior

Property Number: 61200440004

Status: Excess

Reason: Extensive deterioration

Washington

Barn

Heart K Ranch

Near Thorp Co: Kittitas WA 98946-

Landholding Agency: Interior

Property Number: 61200330014

Status: Unutilized

Reason: Extensive deterioration

Garage/Shop

Heart K Ranch

Near Thorp Co: Kittitas WA 98946-

Landholding Agency: Interior

Property Number: 61200330015

Status: Unutilized

Reason: Extensive deterioration

1-Stall Garage

Heart K Ranch

Near Thorp Co: Kittitas WA 98946-

Landholding Agency: Interior

Property Number: 61200330016

Status: Unutilized

Reason: Extensive deterioration

Residence

Heart K Ranch

Near Thorp Co: Kittitas WA 98946-

Landholding Agency: Interior

Property Number: 61200330017

Status: Unutilized

Reason: Extensive deterioration

Storage

Heart K Ranch

Near Thorp Co: Kittitas WA 98946-

Landholding Agency: Interior

Property Number: 61200330018

Status: Unutilized

Reason: Extensive deterioration

Residence No. 50

1807 Rest Haven Road

Yakima WA 98901-

Landholding Agency: Interior

Property Number: 61200330019

Status: Unutilized

Reason: Extensive deterioration

Cow Barn 1807 Rest Haven Road

Yakima WA 98901-

Landholding Agency: Interior

Property Number: 61200330020

Status: Unutilized

Reason: Extensive deterioration

Chicken Coop

1807 Rest Haven Road

Yakima WA 98901-

Landholding Agency: Interior

Property Number: 61200330021

Status: Unutilized

Reason: Extensive deterioration

Garage/No. 804

Columbia Basin

George Co: Grant WA 98848-

Landholding Agency: Interior

Property Number: 61200330024

Status: Unutilized

Reason: Extensive deterioration

Residence No. 804

Columbia Basin

George Co: Grant WA 98848-

Landholding Agency: Interior

Property Number: 61200330025

Status: Unutilized

Reason: Extensive deterioration

Garage/No. 801

Columbia Basin

George Co: Grant WA 98848-

Landholding Agency: Interior

Property Number: 61200330026

Status: Unutilized

Reason: Extensive deterioration

Residence No. 801

Columbia Basin

George Co: Grant WA 98848-

Landholding Agency: Interior

Property Number: 61200330027

Status: Unutilized

Reason: Extensive deterioration

Garage/No. 305

Columbia Basin

Soap Lake Co: Grant WA 98851-

Landholding Agency: Interior

Property Number: 61200330028

Status: Unutilized

Reason: Extensive deterioration

Residence No. 305

Columbia Basin

Soap Lake Co: Grant WA 98851-

Landholding Agency: Interior

Property Number: 61200330029

Status: Unutilized

Reason: Extensive deterioration

Garage/Residence No. 304

Columbia Basin

Soap Lake Co: Grant WA 98851-

Landholding Agency: Interior

Property Number: 61200330030

Status: Unutilized

Reason: Extensive deterioration

Residence No. 304

Columbia Basin

Soap Lake Co: Grant WA 98851-

Landholding Agency: Interior

Property Number: 61200330031

Status: Unutilized

Reason: Extensive deterioration

Bldg. 81

39307 Kelly Road

Benton City Co: Benton WA 99320-

Landholding Agency: Interior

Property Number: 61200340001

Status: Unutilized

Reason: Extensive deterioration

Garage/81

39307 Kelly Road

Benton City Co: Benton WA 99320-

Landholding Agency: Interior

Property Number: 61200340002

Status: Unutilized

Reason: Extensive deterioration

Bldg. 73

1171 Beane Road

Moxee Co: Yakima WA 98936-

Landholding Agency: Interior

Property Number: 61200340003

Status: Unutilized

Reason: Extensive deterioration

Garage/73

1171 Beane Road

Moxee Co: Yakima WA 98936-

Landholding Agency: Interior

Property Number: 61200340004

Status: Unutilized

Reason: Extensive deterioration

Bldg. 129

1917 Marsh Road

Yakima WA 98901-

Landholding Agency: Interior

Property Number: 61200340005

Status: Unutilized

Reason: Extensive deterioration

Bldg. 1101

N. Cascades Natl Park

Whatcom Co: WA

Landholding Agency: Interior

Property Number: 61200520009

Status: Unutilized

Reason: Extensive deterioration

Bldg. 529

Puget Sound Naval Shipyard

Bremerton WA 98314-5000

Landholding Agency: Navy

Property Number: 77200040020

Status: Excess

Reason: Secured Area

Bldg. 8

Naval Reserve Center

Spokane Co: WA 99205-

Landholding Agency: Navy

Property Number: 77200430025

Status: Excess

Reasons: Secured Area; Extensive deterioration

Bldgs. 10, 11

Naval Reserve Center

Spokane Co: WA 99205-

Landholding Agency: Navy

Property Number: 77200430026

Status: Excess

Reasons: Secured Area; Extensive deterioration

Bldgs. 2656-2658

Naval Air Station

Lake Hancock

Coupeville Co: Island WA 98239-

Landholding Agency: Navy

Property Number: 77200430027

Status: Unutilized

Reason: Secured Area

Bldgs. 2652, 2705

Naval Air Station

Whidbey

Oak Harbor Co: WA 98277-

Landholding Agency: Navy

Property Number: 77200440010

Status: Unutilized

Reason: Secured Area

Bldgs. 79, 884

NAS Whidbey Island

Seaplane Base

Oak Harbor Co: WA 98277-

Landholding Agency: Navy

Property Number: 77200440011

Status: Unutilized

Reason: Secured Area

Bldg. 121

NAS Whidbey Island

Ault Field

Oak Harbor Co: WA 98277-

Landholding Agency: Navy

Property Number: 77200440012

Status: Unutilized

Reason: Secured Area

Bldg. 419

NAS Whidbey Island

Ault Field

Oak Harbor Co: WA 98277-

Landholding Agency: Navy

Property Number: 77200440013

Status: Unutilized

Reason: Secured Area

Bldgs. 2609, 2610

NAS Whidbey Island

Ault Field

Oak Harbor Co: WA 98277-

Landholding Agency: Navy

Property Number: 77200440014

Status: Unutilized

Reason: Secured Area

Bldg. 2753

NAS Whidbey Island

Ault Field

Oak Harbor Co: WA 98277-

Landholding Agency: Navy

Property Number: 77200440015

Status: Unutilized

Reason: Secured Area

Bldg. 108

Naval Magazine

Port Hadlock Co: Jefferson WA 98339-9723

Landholding Agency: Navy

Property Number: 77200510015

Status: Unutilized

Reasons: Secured Area; Extensive deterioration

West Virginia

Buckland Pump House

New River Gorge

Tract 104-01

Hinton Co: Raleigh WV 25951-

Landholding Agency: Interior

Property Number: 61200520020

Status: Excess

Reason: Extensive deterioration

Buckland Footbridge

New River Gorge

Tract 104-01

Hinton Co: Raleigh WV 25951-

Landholding Agency: Interior

Property Number: 61200520021

Status: Excess

Reason: Extensive deterioration

Helms House/Shed

New River Gorge

Tract 104-05

Hinton Co: Raleigh WV 25951-

Landholding Agency: Interior

Property Number: 61200520022

Status: Excess

Reason: Extensive deterioration

Cochran Pump House

New River Gorge

Tract 104-29

Hinton Co: Raleigh WV 25951-

Landholding Agency: Interior

Property Number: 61200520023

Status: Excess

Reason: Extensive deterioration

Cochran Camp

New River Gorge

Tract 104-31

Hinton Co: Raleigh WV 25951-

Landholding Agency: Interior

Property Number: 61200520024

Status: Excess

Reason: Extensive deterioration

Emil Pike Buildings

New River Gorge

Tract 121-20

Hinton Co: Raleigh WV 25951-

Landholding Agency: Interior

Property Number: 61200520025

Status: Excess

Reason: Extensive deterioration

Poling House/Sheds

New River Gorge

Tract 121-21

Hinton Co: Raleigh WV 25951-

Landholding Agency: Interior

Property Number: 61200520026

Status: Excess

Reason: Extensive deterioration

Laing House

New River Gorge

Tract 154-19

Hinton Co: Raleigh WV 25951-

Landholding Agency: Interior

Property Number: 61200520027

Status: Excess

Reason: Extensive deterioration

Truman Dent House

New River Gorge

Tract 166-01

Hinton Co: Raleigh WV 25951-

Landholding Agency: Interior

Property Number: 61200520028

Status: Excess

Reason: Extensive deterioration

Harris House

New River Gorge

Tract 166-06

Hinton Co: Raleigh WV 25951-

Landholding Agency: Interior

Property Number: 61200520029

Status: Excess

Reason: Extensive deterioration

Crabtree House

New River Gorge

Tract 169-25

Hinton Co: Raleigh WV 25951-

Landholding Agency: Interior

Property Number: 61200520030

Status: Excess

Reason: Extensive deterioration

Land (by State)

California

Trailer Space

Naval Base

San Diego Co: CA

Landholding Agency: Navy

Property Number: 77200520013

Status: Unutilized

Reason: Secured Area

Hawaii

Portion/PR111016

Naval Station

Beckoning Point

Pearl Harbor Co: Honolulu HI 96860-

Landholding Agency: Navy

Property Number: 77200440005

Status: Unutilized

Reason: Secured Area

North Carolina

Sites A,B,C,D,E

Marine Corps Base

Camp Lejeune Co: NC

Landholding Agency: Navy

Property Number: 77200430053

Status: Underutilized

Reason: Secured Area

Portion/Training Area

Marine Corps Base

Camp Lejeune Co: NC -

Landholding Agency: Navy

Property Number: 77200430065

Status: Underutilized

Reason: Secured Area

Puerto Rico

Site 3

Naval Station Roosevelt Roads

Ceiba PR 00735-

Landholding Agency: Navy

Property Number: 77200320031

Status: Unutilized

Reason: Secured Area

Site 4

Naval Station Roosevelt Roads

Ceiba PR 00735-

Landholding Agency: Navy

Property Number: 77200320032

Status: Unutilized

Reason: Secured Area

Washington

405 sq. ft./Land

Naval Base Kitsap

Bangor Co: WA

Landholding Agency: Navy

Property Number: 77200520060

Status: Unutilized

Reason: Secured Area

[FR Doc. 05-18743 Filed 9-22-05; 8:45 am]

BILLING CODE 4210-29-P